DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Fall 2013 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the spring 2013 agenda. The purpose of the agenda is to provide information to the public on regulations that are currently under review, being proposed, or issued by Commerce. The agenda is intended to facilitate comments and views by interested members of the public.

Commerce's fall 2013 regulatory agenda includes regulatory activities that are expected to be conducted during the period October 1, 2013, through September 30, 2014.

FOR FURTHER INFORMATION CONTACT:

Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its fall 2013 Unified Agenda of Federal Regulatory and Deregulatory Actions pursuant to Executive Order 12866 and the Regulatory Flexibility Act, 5 U.S.C. 601 et seq. Executive Order 12866 requires agencies to publish an agenda of those regulations that are under consideration pursuant to this order. By memorandum of August 7, 2013, the Office of Management and Budget issued guidelines and procedures for the preparation and publication of the fall 2013 Unified Agenda. The Regulatory Flexibility Act requires agencies to publish, in the spring and fall of each year, a regulatory flexibility agenda that contains a brief description of the subject of any rule likely to have a significant economic impact on a substantial number of small entities, and a list that identifies those entries that have been selected for periodic review under section 610 of the Regulatory Flexibility Act.

In this edition of Commerce's regulatory agenda, a list of the most important significant regulatory actions and a Statement of Regulatory Priorities are included in the Regulatory Plan, which appears in both the online Unified Agenda and in part II of the issue of the Federal Register that includes the Unified Agenda.

In addition, beginning with the fall 2007 edition, the Internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the Internet. In addition, for fall editions of the Agenda, Commerce's entire Regulatory Plan will continue to be printed in the Federal Register.

Within Commerce, the Office of the Secretary and various operating units may issue regulations. These operating units, the National Oceanic and Atmospheric Administration (NOAA), the Bureau of Industry and Security, and the Patent and Trademark Office, issue the greatest share of Commerce's regulations.A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. Fishery Management Plans (FMPs) are to be prepared for fisheries that require conservation and management measures. Regulations implementing these FMPs regulate domestic fishing and foreign fishing where permitted. Foreign fishing may be conducted in a fishery in which there is no FMP only if a preliminary fishery management plan has been issued to govern that foreign fishing. Under the Act, eight Regional Fishery Management Councils (Councils) prepare FMPs or amendments to FMPs for fisheries within their respective areas. In the development of such plans or amendments and their implementing regulations, the Councils are required by law to conduct public hearings on the draft plans and to consider the use of alternative means of regulating.

The Council process for developing FMPs and amendments makes it difficult for NMFS to determine the significance and timing of some regulatory actions under consideration by the Councils at the time the semiannual regulatory agenda is published.

Commerce's fall 2013 regulatory agenda follows.

Cameron F. Kerry,
General Counsel.

International Trade Administration—Final Rule Stage
Sequence No. | Title | Regulation Identifier No.
181 | Modification of Regulation Regarding the Extension of Time Limits | 0625-AA94

National Oceanic and Atmospheric Administration—Proposed Rule Stage
Sequence No. | Title | Regulation Identifier No.
182 | Fishery Management Plan for Regulating Offshore Marine Aquaculture in the Gulf of Mexico | 0648-AS65
183 | Marine Mammal Protection Act Stranding Regulation Revisions | 0648-AW22
184 | Addendum IV to the Weakfish Interstate Management Plan—Bycatch Trip Limit | 0648-AY41
185 | Implement the 2010 Shark Conservation Act Provisions and Other Regulations in the Atlantic Smoothhound Shark Fishery | 0648-BB02
186 | Generic Amendment to Several Fishery Management Plans in the Gulf of Mexico and South Atlantic Regions to Modify Federally-Permitted Seafood Dealer Reporting Requirements | 0648-BC12
187 | Amendment 43 to the FMP for BSAI King and Tanner Crabs and Amendment 103 to the FMP for Groundfish of the BSAI | 0648-BC34
188 | Amendment 3 to the Spiny Dogfish Fishery Management Plan | 0648-BC77
189 | Pacific Coast Groundfish Trawl Rationalization Program Trailing Action: Rule to Modify Chafing Gear Regulations for Midwater Trawl Gear Used in the Pacific Coast Groundfish Fishery | 0648-BC84
190 | Inner Limit of the Exclusive Economic Zone under the Magnuson-Stevens Fishery Conservation and Management Act | 0648-BC92
191 | Fisheries Off West Coast States; West Coast Salmon Fisheries; Amendment 18; Essential Fish Habitat Descriptions for Pacific Salmon | 0648-BC95
192 | Vessel Monitoring Systems; Specification of Requirements for Mobile Transmitting Unit Type Approval | 0648-BD02
193 | Joint for-Hire Generic Reporting Amendment for the South Atlantic and Gulf of Mexico | 0648-BD21
194 | Amendment 5b to the Highly Migratory Species Fishery Management Plan | 0648-BD22
195 | Amendment 105 Bering Sea Flatfish Harvest Specifications Flexibility | 0648-BD23
196 | Amendment 39 to the Fishery Management Plan for the Reef Fish Resources of the Gulf of Mexico | 0648-BD25
197 | Pacific Coast Groundfish Trawl Rationalization Program Trailing Actions: Permitting Requirements for Observer and Catch Monitor Providers | 0648-BD30
198 | Modifications to the Pacific Coast Groundfish Trawl Rockfish Conservation Area Boundaries | 0648-BD37
199 | Southern New England Effort Controls to Address Lobster Stock Rebuilding Measures | 0648-BD45
200 | Western Pacific Pelagic Fisheries; Territorial Longline Catch and Effort Limits and Assignments | 0648-BD46
201 | Amendment 97 to the Fishery Management Plan for Groundfish of the Gulf of Alaska to Establish Chinook Salmon Prohibited Species Catch Limits for the Non-pollock Trawl Fisheries | 0648-BD48
202 | Framework Adjustment 8 to the Atlantic Mackerel, Squid and Butterfish Fishery Management Plan | 0648-BD50
203 | Management Measures for Fishing Years 2014-2016 Tropical Tunas in the Eastern Pacific Ocean | 0648-BD52
204 | Implementation of the Inter-American Tropical Tuna Commission Resolution for the Conservation of Whale Sharks and the Collection and Analyses of Data on Fish Aggregating Devices | 0648-BD53
205 | Implementation of the Inter-American Tropical Tuna Commission Resolution to Establish a Vessel Monitoring System Program in the Eastern Pacific Ocean | 0648-BD54
206 | Implementation of the Inter-American Tropical Tuna Commission Resolution to Adopt Conservation and Management Measures for Pacific Bluefin Tuna in the Eastern Pacific Ocean | 0648-BD55
207 | Framework Adjustment 8 to the Monkfish Fishery Management Plan | 0648-BD56
208 | South Atlantic Coastal Migratory Pelagics Framework Action 2013 (Section 610 Review) | 0648-BD58
209 | Implementation of a Program for Transshipments by Large Scale Fishing Vessels in the Eastern Pacific Ocean | 0648-BD59
210 | Amendment 45 to the Fishery Management Plan for Bering Sea and Aleutian Islands King and Tanner Crab Freezer Longline Catcher/Processor Pacific Cod Sideboard Removal | 0648-BD61
211 | Change to Fishing Season Start Date; Pacific Sardine Fishery; Coastal Pelagic Species Fishery Management Plan | 0648-BD63
212 | Information Collection Program for Atlantic Surfclam and Ocean Quahog Fisheries | 0648-BD64
213 | 2014 Specifications and Management Measures for the Atlantic Mackerel, Squid and Butterfish Fishery Management Plan | 0648-BD65
214 | Modifications to Identification Markings on Fishing Gear Marker Buoys | 0648-BD66
215 | Designation of Critical Habitat for the North Atlantic Right Whale | 0648-AY54
216 | Amendment and Updates to the Bottlenose Dolphin Take Reduction Plan | 0648-BB37

National Oceanic and Atmospheric Administration—Final Rule Stage
Sequence No. | Title | Regulation Identifier No.
217 | American Lobster Fishery; Fishing Effort Control Measures to Complement Interstate Lobster Management Recommendations by the Atlantic States Marine Fisheries Commission | 0648-AT31
218 | Amendment 14 to the Atlantic Mackerel, Squid, and Butterfish Fishery Management Plan | 0648-AY26
219 | Amendment 5 to the Atlantic Herring Fishery Management Plan | 0648-AY47
220 | Fisheries off West Coast States; Pacific Coast Groundfish Fishery; Trawl Rationalization Program; Cost Recovery Program | 0648-BB17
221 | Amendment 89 to the Gulf of Alaska Groundfish Fishery Management Plan Area Closures for Chionoecetes bairdi Crab Protection in Gulf of Alaska Groundfish Fisheries | 0648-BB76
222 | Amendment to the Vessel Ownership Requirements of the Individual Fishing Quota Program for Fixed-Gear Pacific Halibut and Sablefish Fisheries In and Off of Alaska | 0648-BB78
223 | Georges Bank Yellowtail Flounder Emergency Action to Provide a Partial Exemption from Accountability Measures to the Atlantic Scallop Fishery | 0648-BC33
224 | Amendment 95 to the Fishery Management Plan for Groundfish of the Gulf of Alaska | 0648-BC39
225 | Modification to the Hired Skipper Regulations for Management of the Individual Fishing Quota Program for the Fixed-Gear Commercial Fisheries for Pacific Halibut and Sablefish in Waters of Alaska | 0648-BC62
226 | 2013 Monkfish Emergency Action | 0648-BC79
227 | Allowing Northeast Multispecies Sector Vessels Access to Year Round Closed Areas | 0648-BD09
228 | Amendment 2 to the Fishery Management Plan for the Queen Conch Resources of Puerto Rico and the USVI: Compatibility of Trip and Bag Limits in the Management Area of St. Croix, USVI | 0648-BD15
229 | Framework Adjustment 2 to the Atlantic Herring Fishery Management Plan and Management Measures for Atlantic Herring for the 2013-2015 Fishing Years | 0648-BD17
230 | Modification of Vessel Monitoring System Requirements for Atlantic Highly Migratory Species Fisheries | 0648-BD24
231 | Pacific Coast Groundfish Trawl Rationalization Program; Second Program Improvement and Enhancement Rule | 0648-BD31
232 | Framework Action to Increase Quotas for the Red Snapper Component of the Reef Fish Fishery and Establish a Second Recreational Season | 0648-BD39
233 | Revision of Hawaiian Monk Seal Critical Habitat | 0648-BA81
234 | Removal of the Sunset Provision of the Final Rule Implementing Vessel Speed Restrictions to Reduce the Threat of Ship Collisions With North Atlantic Right Whales | 0648-BB20
235 | Endangered and Threatened Species: Designation of Critical Habitat for Threatened Lower Columbia River Coho Salmon and Puget Sound Steelhead | 0648-BB30
236 | Designation of Critical Habitat for the Distinct Population Segments of Yelloweye Rockfish, Canary Rockfish, and Bocaccio | 0648-BC76
237 | Amending the Atlantic Large Whale Take Reduction Plan | 0648-BC90
238 | Designation of Critical Habitat for the Northwest Atlantic Ocean Loggerhead Sea Turtle DPS and the Determination Regarding Critical Habitat for the North Pacific Ocean Loggerhead DPS | 0648-BD27

National Oceanic and Atmospheric Administration—Long-Term Actions
Sequence No. | Title | Regulation Identifier No.
239 | Magnuson-Stevens Fishery Conservation and Management Reauthorization Act (MSRA) Environmental Review Procedure | 0648-AV53
240 | Amendment 6 to the Monkfish Fishery Management Plan | 0648-BA50
241 | Amendment 22 to the Fishery Management Plan for the Snapper Grouper Fishery of the South Atlantic Region | 0648-BA53
242 | Comprehensive Fishery Management Plan for Puerto Rico | 0648-BD32
243 | Comprehensive Fishery Management Plan for St. Croix | 0648-BD33
244 | Comprehensive Fishery Management Plan for St. Thomas/St. John | 0648-BD34
245 | Marine Mammal Protection Act Permit Regulation Revisions | 0648-AV82

National Oceanic and Atmospheric Administration—Completed Actions
Sequence No. | Title | Regulation Identifier No.
246 | Amendment 18B to the Snapper Grouper Fishery Management Plan of the South Atlantic Region | 0648-BB58
247 | Pacific Coast Groundfish Trawl Rationalization Program Reconsideration of Allocation of Whiting (Raw 2) | 0648-BC01
248 | Amendment 4 to the Fishery Management Plan for the Reef Fish Fishery of Puerto Rico and the U.S. Virgin Islands: Parrotfish Size Limits | 0648-BC20
249 | Amendment 42 to the Fishery Management Plan for Bering Sea/Aleutian Islands King and Tanner Crabs | 0648-BC25
250 | Framework Adjustment 48 to the Northeast Multispecies Fishery Management Plan | 0648-BC27
251 | Magnuson-Stevens Act Provisions; Fisheries off West Coast States; Pacific Coast Groundfish Fishery; Specifications and Management Measures and FMP Amendment 21-1 | 0648-BC35
252 | Management Measures for Pacific Bluefin Tuna in the Eastern Pacific Ocean | 0648-BC44
253 | Regulatory Amendment to Implement an Exempted Fishery for the Spiny Dogfish Fishery off Cape Cod, MA | 0648-BC50
254 | Pacific Halibut Fisheries; Catch Sharing Plan for Washington, Oregon, and California | 0648-BC75
255 | 2013-2015 Spiny Dogfish Fishery Specifications | 0648-BC85
256 | International Fisheries; Western and Central Pacific Fisheries for Highly Migratory Species; Fishing Restrictions in Purse Seine Fisheries for 2013 and 2014 | 0648-BC87
257 | Pacific Coast Whiting Fishery Allocations for 2013 | 0648-BC93
258 | Emergency Rule to Establish Recreational Closure Authority Specific to Federal Waters off Individual States for the Red Snapper Component of the Reef Fish Fishery | 0648-BD00
259 | Regulatory Amendment 18 to the Fishery Management Plan for the Snapper Grouper Fishery of the South Atlantic Region | 0648-BD04
260 | 2013 Summer Flounder, Scup, and Black Sea Bass Recreational Harvest Measures and Increase to the 2013 and 2014 Black Sea Bass Specifications | 0648-BD13
261 | Framework Adjustment 24 to the Atlantic Sea Scallop FMP and Framework Adjustment 49 to the Northeast Multispecies Fishery Management Plan | 0648-BC81

DEPARTMENT OF COMMERCE (DOC)

International Trade Administration (ITA)

Final Rule Stage

181. Modification of Regulation Regarding the Extension of Time Limits

Legal Authority: 5 U.S.C. 301; 19 U.S.C. 1202 note; 19 U.S.C. 1303 note; 19 U.S.C. et seq.; 19 U.S.C. 3538

Abstract: Requesting comment on a proposed modification to 19 CFR 351.302, which concerns the extension of time limits for submissions in antidumping and countervailing duty proceedings.

Timetable:

Action | Date | FR Cite
Proposed Rule | 01/16/13 | 78 FR 3367
Final Action | 11/00/13 |

Regulatory Flexibility Analysis Required: Yes.

Agency Contact: Charles Vannatta, Policy Analyst, Department of Commerce, International Trade Administration, 1401 Constitution Ave NW., Washington, DC 20230, Phone: 202 482-4036, Email: charles.vannatta@trade.gov.

RIN: 0625-AA94

DEPARTMENT OF COMMERCE (DOC)

National Oceanic and Atmospheric Administration (NOAA)

Proposed Rule Stage

National Marine Fisheries Service

182. Fishery Management Plan for Regulating Offshore Marine Aquaculture in the Gulf of Mexico

Legal Authority: 16 U.S.C. 1801 et seq.

Abstract: The purpose of this fishery management plan is to develop a regional permitting process for regulating and promoting environmentally sound and economically sustainable aquaculture in the Gulf of Mexico exclusive economic zone. This fishery management plan consists of ten actions, each with an associated range of management alternatives, which would facilitate the permitting of an estimated 5 to 20 offshore aquaculture operations in the Gulf of Mexico over the next 10 years, with an estimated annual production of up to 64 million pounds. By establishing a regional permitting process for aquaculture, the Gulf of Mexico Fishery Management Council will be positioned to achieve their primary goal of increasing maximum sustainable yield and optimum yield of Federal fisheries in the Gulf of Mexico by supplementing harvest of wild caught species with cultured product. This rulemaking would outline a regulatory permitting process for aquaculture in the Gulf of Mexico, including: (1) Required permits; (2) duration of permits; (3) species allowed; (4) designation of sites for aquaculture; (5) reporting requirements; and (6) regulations to aid in enforcement.

Timetable:

Action | Date | FR Cite
Notice of Availability | 06/04/09 | 74 FR 26829
NOA comment period end | 08/03/09 |
NPRM | 12/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AS65

183. Marine Mammal Protection Act Stranding Regulation Revisions

Legal Authority: 16 U.S.C. 1379; 16 U.S.C. 1382; 16 U.S.C. 1421

Abstract: NMFS intends to clarify the requirements and procedures for responding to stranded marine mammals and for determining the disposition of rehabilitated marine mammals, which includes the procedures for the placement of non-releasable animals and for authorizing the retention of releasable rehabilitated marine mammals for scientific research, enhancement, or public display.

Timetable:

Action | Date | FR Cite
ANPRM | 01/31/08 | 73 FR 5786
ANPRM Comment Period Extended | 03/28/08 | 73 FR 16617
NPRM | 07/00/14 |

Regulatory Flexibility Analysis Required: Yes.

Agency Contact: Donna Wieting, Fishery Biologist, Office of Protected Resources, Department of Commerce, National Oceanic and Atmospheric Administration, National Marine Fisheries Service, 1315 East-West Highway, Silver Spring, MD 20910, Phone: 301 713-2322.

RIN: 0648-AW22

184. Addendum IV to the Weakfish Interstate Management Plan—Bycatch Trip Limit

Legal Authority: 16 U.S.C. 5101

Abstract: This action would modify management restrictions in the Federal weakfish fishery in a manner consistent with the Atlantic States Marine Fisheries Commission Interstate Plan. The proposed change would decrease the incidental catch allowance for weakfish in the exclusive economic zone in non-directed fisheries using smaller mesh sizes, from 150 pounds to no more than 100 pounds per day or trip, whichever is longer in duration. In addition, it would impose a one fish possession limit on recreational fishers.

Timetable:

Action | Date | FR Cite
NPRM | 05/12/10 | 75 FR 26703
NPRM Comment Period End | 06/11/10 |
NPRM Comment Period Re-opened | 06/16/10 | 75 FR 34092
Comment Period End | 06/30/10 |
Proposed Rule | 04/00/14 |

Regulatory Flexibility Analysis Required: Yes.

Agency Contact: Emily Menashes, Acting Director, Office of Sustainable Fisheries, Department of Commerce, National Oceanic and Atmospheric Administration, 1315 East-West Highway, Silver Spring, MD 20910, Phone: 301 713-2234, Email: emily.menashes@noaa.gov.

RIN: 0648-AY41

185. Implement the 2010 Shark Conservation Act Provisions and Other Regulations in the Atlantic Smoothhound Shark Fishery

Legal Authority: 16 U.S.C. 1801 et seq.

Abstract: This proposed rule considers implementing the provisions of the 2010 Shark Conservation Act and other regulations in the Atlantic Smoothhound Fishery (which includes smooth dogfish and the Florida smoothhound). Specifically, this action would: (1) Modify regulations for smooth dogfish as needed to be consistent with the Shark Conservation Act; (2) consider other management measures, as needed, including the Terms and Conditions of the Endangered Species Act Smoothhound Biological Opinion; and, (3) consider revising the current smoothhound shark quota based on updated catch data.

Timetable:

Action | Date | FR Cite
NPRM | 03/00/14 |

Regulatory Flexibility Analysis Required: Yes.

Agency Contact: Emily Menashes, Acting Director, Office of Sustainable Fisheries, Department of Commerce, National Oceanic and Atmospheric Administration, 1315 East-West Highway, Silver Spring, MD 20910, Phone: 301 713-2234, Email: emily.menashes@noaa.gov.

RIN: 0648-BB02

186. Generic Amendment to Several Fishery Management Plans in the Gulf of Mexico and South Atlantic Regions To Modify Federally-Permitted Seafood Dealer Reporting Requirements

Legal Authority: 16 U.S.C. 1801 et seq.

Abstract: To better ensure commercial landings of managed fish stocks do not exceed annual catch limits, improvements are needed to the accuracy, completeness, consistency, and timeliness of data submitted by federally-permitted seafood dealers. The purpose of the generic amendment is to change the current reporting requirements for those dealers who purchase fish managed under several of the Gulf of Mexico and South Atlantic Fishery Management Council fishery management plans. Changes are proposed to the current six dealer permits to increase the species that must be reported. Changes are also proposed to the method and frequency of dealer reporting. This action will aid in achieving the optimum yield from each fishery while reducing (1) undue socioeconomic harm to dealers and fishermen and (2) administrative burdens to fishery agencies

Timetable:

Action | Date | FR Cite
NPRM | 11/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC12

187. Amendment 43 to the FMP for BSAI King and Tanner Crabs and Amendment 103 to the FMP for Groundfish of the BSAI

Legal Authority: 16 U.S.C. 1801

Abstract: This rule would implement both Amendment 43 to the Fishery Management Plan for Bering Sea/Aleutian Islands King and Tanner Crabs and Amendment 103 to the Fishery Management Plan for Groundfish of the Bering Sea and Aleutian Islands Management Area. Amendment 43 revises the current rebuilding plan for Pribilof Islands blue king crab (blue king crab) and Amendment 103 implements groundfish fishing restrictions. A no-trawl Pribilof Islands Habitat Conservation Zone (Zone) was established in 1995 and the directed fishery for blue king crab has been closed since 1999. A rebuilding plan was implemented in 2003; however, blue king crab remains overfished and the current rebuilding plan has not achieved adequate progress towards rebuilding the stock by 2014. The rule would close the Zone to all Pacific cod pot fishing in addition to the current trawl prohibition. This measure would help support blue king crab rebuilding and prevent exceeding the overfishing limit of blue king crab by minimizing to the extent practical blue king crab bycatch in the groundfish fisheries.

Timetable:

Action | Date | FR Cite
NPRM | 11/00/13 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BC34

188. Amendment 3 to the Spiny Dogfish Fishery Management Plan

Legal Authority: 16 U.S.C. 1801 et seq.

Abstract: The action would make four modifications to the management measures in the Spiny Dogfish Fishery Management Plan. These include allowing up to 3 percent of the annual quota to be set aside for research purposes (research set-aside), updating the essential fish habitat definitions for spiny dogfish, allowing the previous year's management measures to be carried over into the subsequent year in the case of rulemaking delays, and removing the seasonal allocation of the commercial quota. The action is needed to improve the efficiency of the Spiny Dogfish Fishery Management Plan, and help reduce misalignment of regulations with the Atlantic States Marine Fisheries Commission's Interstate Fishery Management Plan for spiny dogfish.

Timetable:

Action | Date | FR Cite
NPRM | 11/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC77

189. Pacific Coast Groundfish Trawl Rationalization Program Trailing Action: Rule To Modify Chafing Gear Regulations for Midwater Trawl Gear Used in the Pacific Coast Groundfish Fishery

Legal Authority: 16 U.S.C. 1801 et seq.

Abstract: This action would modify the existing chafing gear regulations for midwater trawl gear, and includes housekeeping measures to clarify which vessels can use midwater trawl gear and where midwater trawl gear can be used. This action includes regulations that affect all trawl sectors (Shorebased Individual Fishing Quota Program, Mothership Cooperative Program, Catcher/Processor Cooperative Program, and tribal fishery) managed under the Pacific Coast Groundfish Fishery Management Plan.

Timetable:

Action | Date | FR Cite
NPRM | 11/00/13 |

Regulatory Flexibility Analysis Required: Yes.

Agency Contact: Barry Thom, Deputy Regional Administrator, Northwest Region, NMFS, Department of Commerce, National Oceanic and Atmospheric Administration, Building 1, 7600 Sand Point Way NE., Seattle, WA 48115-0070, Phone: 206 526-6150, Fax: 206 526-6426, Email: barry.thom@noaa.gov.

RIN: 0648-BC84

190. Inner Limit of the Exclusive Economic Zone Under the Magnuson-Stevens Fishery Conservation and Management Act

Legal Authority: 16 U.S.C. 1801 et seq.

Abstract: This action would define the term “inner limit of the exclusive economic zone” under the Magnuson-Stevens Fishery Conservation and Management Act (MSA). The MSA establishes sovereign rights and exclusive management authority over fishery resources of the U.S. Exclusive Economic Zone. The inner limit of the Exclusive Economic Zone is described as a line coterminous with the seaward boundary of each of the coastal states. NMFS, as well as the U.S. Coast Guard and state partners, enforce Federal fishery regulations on the basis of the 3 nautical mile line as it is represented on NOAA charts. The use of 3 nautical mile line has caused confusion when NOAA charts are updated because the baseline for establishing this line is ambulatory. NMFS proposes to clarify/correct this by defining this seaward boundary line to be a line established pursuant to the Submerged Lands Act.

Timetable:

Action | Date | FR Cite
NPRM | 03/00/14 |

Regulatory Flexibility Analysis Required: Yes.

Agency Contact: Emily Menashes, Acting Director, Office of Sustainable Fisheries, Department of Commerce, National Oceanic and Atmospheric Administration, 1315 East-West Highway, Silver Spring, MD 20910, Phone: 301 713-2234, Email: emily.menashes@noaa.gov.

RIN: 0648-BC92

191. Fisheries Off West Coast States; West Coast Salmon Fisheries; Amendment 18; Essential Fish Habitat Descriptions for Pacific Salmon

Legal Authority: 16 U.S.C. 1801 et seq.

Abstract: The proposed action would implement Amendment 18 to the Pacific Coast Salmon Fishery Management Plan. The purpose of the amendment is to address revisions to the Pacific coast salmon essential fish habitat provisions under the Magnuson-Stevens Fishery Conservation and Management Act.

Timetable:

Action | Date | FR Cite
NPRM | 12/00/13 |

Regulatory Flexibility Analysis Required: Yes.

Agency Contact: Barry Thom, Deputy Regional Administrator, Northwest Region, NMFS, Department of Commerce, National Oceanic and Atmospheric Administration, Building 1, 7600 Sand Point Way NE., Seattle, WA 48115-0070, Phone: 206 526-6150, Fax: 206 526-6426, Email: barry.thom@noaa.gov.

RIN: 0648-BC95

192. Vessel Monitoring Systems; Specification of Requirements for Mobile Transmitting Unit Type Approval

Legal Authority: 16 U.S.C. 1801 et seq.

Abstract: All vessels participating in a NOAA Vessel Monitoring System program are required to acquire a NMFS-approved mobile transmitting unit to comply with the Vessel Monitoring System requirements. Previously, this action was only taken through the publication of a notice in the Federal Register. However, this rule will establish the type-approval standards, specifications, and procedures that vendors may reference to maintain type-approval for their products and/or services. This action will establish type-approval standards for the initial approval, subsequent assessments, and the procedures for rescinding the type-approval if the vendor fails to comply with the performance standards. This action is necessary to ensure Vessel Monitoring System vendors continue to meet minimum performance standards over the long term.

Timetable:

Action | Date | FR Cite
NPRM | 11/00/13 |

Regulatory Flexibility Analysis Required: Yes.

Agency Contact: Emily Menashes, Acting Director, Office of Sustainable Fisheries, Department of Commerce, National Oceanic and Atmospheric Administration, 1315 East-West Highway, Silver Spring, MD 20910, Phone: 301 713-2234, Email: emily.menashes@noaa.gov.

RIN: 0648-BD02

193. Joint For-Hire Generic Reporting Amendment for the South Atlantic and Gulf of Mexico

Legal Authority: 16 U.S.C. 1801 et seq.

Abstract: This action would require headboat vessel operators to submit electronic fishing records (via computer or internet) rather than paper logbooks for the South Atlantic snapper-grouper, dolphin wahoo, and coastal migratory pelagics fisheries. It also gives NMFS the flexibility to modify the reporting frequency, via notice, if this becomes necessary in the future. Electronic reporting will allow for more timely data collection which would help with tracking recreational annual catch limits and preventing annual catch limits overages.

Timetable:

Action | Date | FR Cite
NPRM | 11/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD21

194. Amendment 5B to the Highly Migratory Species Fishery Management Plan

Legal Authority: 16 U.S.C. 1801 et seq.; 16 U.S.C. 971 et seq.

Abstract: This rulemaking would propose management measures for dusky sharks based on a recent stock assessment, taking into consideration comments received on the proposed rule and Amendment 5 to the 2006 Consolidated Highly Migratory Species Fishery Management Plan. This rulemaking could consider a range of commercial and recreational management measures in both directed and incidental shark fisheries including, among other things, gear modifications, time/area closures, permitting, shark identification requirements, and reporting requirements. NMFS determined dusky sharks are still overfished and still experiencing overfishing and originally proposed management measures to end overfishing and rebuild dusky sharks in a proposed rule for Draft Amendment 5 to the 2006 Consolidated Atlantic Highly Migratory Species Fishery Management Plan. That proposed rule also contained management measures for scalloped hammerhead, sandbar, blacknose and Gulf of Mexico blacktip sharks. NMFS issued management measures for scalloped hammerhead, sandbar, blacknose and Gulf of Mexico blacktip sharks in a final rule and final amendment referred to as “Amendment 5a” to the 2006 Consolidated Atlantic Highly Migratory Species Fishery Management Plan. Dusky shark management measures will be addressed in this separate, but related, action and will be referred to as “Amendment 5b.”

Timetable:

Action | Date | FR Cite
NPRM | 04/00/14 |

Regulatory Flexibility Analysis Required: Yes.

Agency Contact: Emily Menashes, Acting Director, Office of Sustainable Fisheries, Department of Commerce, National Oceanic and Atmospheric Administration, 1315 East-West Highway, Silver Spring, MD 20910, Phone: 301 713-2234, Email: emily.menashes@noaa.gov.

RIN: 0648-BD22

195. • Amendment 105 Bering Sea Flatfish Harvest Specifications Flexibility

Legal Authority: 16 U.S.C. 1801 et seq.

Abstract: This proposed action is intended to provide additional harvest opportunities to participants in Bering Sea and Aleutian Islands (BSAI) flatfish fisheries while (1) maintaining catch below the annual catch limits for these species and (2) ensuring that the maximum optimum yield for BSAI groundfish fisheries will not be exceeded. Specifically, Amendment 105 to the BSAI Fishery Management Plan would establish a process for Amendment 80 cooperatives and Western Alaska Community Development Quota groups to exchange harvest quota from one of the three flatfish species for an equivalent amount of quota of another species. In no case could the amount of fish exchanged exceed the annual catch limit, commonly known as the allowable biological catch (ABC), of that species. This action would modify the annual harvest specification process to allow the North Pacific Fishery Management Council (Council) to establish the maximum amount of harvest quota that can be exchanged for each of the three flatfish species. This process would allow the Council to establish a buffer below the ABC to account for management or socioeconomic considerations. Each participant could only exchange harvest quota up to three times per year. This action is intended to promote the goals and objectives of the BSAI Fishery Management Plan, the Magnuson-Stevens Fishery Conservation and Management Act, and other applicable laws.

Timetable:

Action | Date | FR Cite
NPRM | 03/00/14 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BD23

196. • Amendment 39 to the Fishery Management Plan for the Reef Fish Resources of the Gulf of Mexico

Legal Authority: 16 U.S.C. 1801 et seq.

Abstract: The purpose of this action is to facilitate management of the recreational red snapper component in the reef fish fishery by reorganizing the Federal fishery management strategy to better account for biological, social, and economic differences among the regions of the Gulf of Mexico. Regional management would enable regions and their associated communities to specify the optimal management parameters that best meet the needs of their local constituents thereby addressing regional socio-economic concerns.

Timetable:

Action | Date | FR Cite
Notice | 05/13/13 | 78 FR 27956
NPRM | 11/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD25

197. • Pacific Coast Groundfish Trawl Rationalization Program Trailing Actions: Permitting Requirements for Observer and Catch Monitor Providers

Legal Authority: 16 U.S.C. 1801 et seq.

Abstract: This action would modify regulations pertaining to certified catch monitors and observers required under the Pacific Coast Groundfish Fishery Management Plan. The action specifies permitting requirements for business entities interested in providing certified observers and catch monitor services, as well as addresses numerous housekeeping measures and updates observer provider and vessel responsibilities relative to observer safety such that the regulations are consistent with the Coast Guard and Maritime Transportation Act of 2012. This action affects individuals serving as certified catch monitors and observers, business entities that provide certified catch monitors and observers, vessels that are required to carry certified observers, and shore-based business entities that are required to employ the services of certified catch monitors.

Timetable:

Action | Date | FR Cite
NPRM | 11/00/13 |

Regulatory Flexibility Analysis Required: Yes.

Agency Contact: Barry Thom, Deputy Regional Administrator, Northwest Region, NMFS, Department of Commerce, National Oceanic and Atmospheric Administration, Building 1, 7600 Sand Point Way NE., Seattle, WA 48115-0070, Phone: 206 526-6150, Fax: 206 526-6426, Email: barry.thom@noaa.gov.

RIN: 0648-BD30

198. • Modifications to the Pacific Coast Groundfish Trawl Rockfish Conservation Area Boundaries

Legal Authority: 16 U.S.C. 1801 et seq.

Abstract: This action would implement recommendations from the Pacific Fishery Management Council to liberalize trawl Rockfish Conservation Area boundaries for participants in the Pacific Coast groundfish shorebased individual fishing quota program, beginning November 1, 2013 through the end of 2014. Different trawl Rockfish Conservation Area variations have been in place since 2002-2003 and are typically adjusted through routine inseason actions to keep overfished fish species within acceptable catch limits or harvest guidelines. This rule proposes to modify the trawl Rockfish Conservation Area boundaries in order to increase access to target species. This rule would increase fishermen's access to their target species allocations, while allowing the individual accountability inherent in the individual fishing quota program to reduce bycatch. This action would also increase the flexibility and efficiency for individual fishing quota program participants and maintain the full catch accounting requirements of the individual fishing quota program.

Timetable:

Action | Date | FR Cite
NPRM | 11/00/13 |

Regulatory Flexibility Analysis Required: Yes.

Agency Contact: Barry Thom, Deputy Regional Administrator, Northwest Region, NMFS, Department of Commerce, National Oceanic and Atmospheric Administration, Building 1, 7600 Sand Point Way NE., Seattle, WA 48115-0070, Phone: 206 526-6150, Fax: 206 526-6426, Email: barry.thom@noaa.gov.

RIN: 0648-BD37

199. • Southern New England Effort Controls To Address Lobster Stock Rebuilding Measures

Legal Authority: 16 U.S.C. 1801 et seq.

Abstract: NMFS announces that the Agency is considering, and seeking public comment on, revisions to Federal American lobster regulations intended to assist in rebuilding the Southern New England lobster stock. The proposed measures include trap reductions in Lobster Management Areas 2 and 3, a minimum carapace size increase for Lobster Management Area 3, mandatory v-notching of egg-bearing female lobster in Lobster Management Areas 2, 4, and 5, and seasonal closures in Lobster Management Areas 4, 5, and 6. These actions are recommended for Federal implementation by the Atlantic States Marine Fisheries Commission (Commission). The proposed stock rebuilding measures were recommended by the Commission in consultation with some, but not all, Federal lobster permit holders through associated industry participation on the Commissions Lobster Conservation Management Teams. While this action could limit fishing effort and landings by Federal lobster permit holders in Southern New England, the proposed measures are consistent with those already implemented by the affected states.

Timetable:

Action | Date | FR Cite
ANPRM | 08/20/13 | 78 FR 51131
NPRM | 01/00/14 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BD45

200. • Western Pacific Pelagic Fisheries; Territorial Longline Catch and Effort Limits and Assignments

Legal Authority: 16 U.S.C. 1801 et seq.

Abstract: The Consolidated and Further Continuing Appropriation Act of 2012, as extended through the end of 2013 by section 110 of the Consolidated and Further Appropriations Act of 2013, directed the Western Pacific Fishery Management Council to amend its fishery ecosystem plan for pelagic fisheries to authorize U.S. Participating Territories of the Western and Central Pacific Fisheries Commission (American Samoa, Northern Mariana Islands, and Guam) to use, assign, allocate, and manage their catch and effort limits for highly migratory fish stocks through arrangements with U.S. vessels permitted under the plan. The Western Pacific Fishery Management Council has therefore recommended establishing a process for assigning territorial catch or effort limit to U.S. vessels that meet specific criteria. Based on the Council's recommendations, NMFS would describe the terms, conditions, and process for U.S. vessels to enter into a fishing arrangement with a territory. Under the proposed amendment, and as part of the specification for the first year, NMFS would specify an annual longline catch limit for bigeye tuna of 2,000 mt for each territory. Each territory would be allowed to enter into fishing arrangements to transfer up to 1,000 mt of that limit, per year, to eligible U.S. vessels.

Timetable:

Action | Date | FR Cite
NPRM | 11/00/13 |

Regulatory Flexibility Analysis Required: Yes.

Agency Contact: Michael Tosatto, Regional Administrator for the Pacific Islands Region, Department of Commerce, National Oceanic and Atmospheric Administration, 1601 Kapiolani Boulevard, Suite 1110, Honolulu, HI 96814, Phone: 808 944-2281.

RIN: 0648-BD46

201. • Amendment 97 to the Fishery Management Plan for Groundfish of the Gulf of Alaska to Establish Chinook Salmon Prohibited Species Catch Limits for the Non-Pollock Trawl Fisheries

Legal Authority: 16 U.S.C. 1801 et seq.; 16 U.S.C. 773 et seq.

Abstract: This rule would limit Chinook salmon prohibited species catch in the Western and Central Gulf of Alaska non-pollock trawl fisheries. Chinook salmon is a fully utilized species in Alaska coastal subsistence, recreational, and commercial fisheries. In recent years the returns of Chinook salmon to some Alaska river systems have been below the biological escapement goals established by the State of Alaska. This action is necessary to minimize the catch of Chinook salmon to the extent practicable in the Gulf of Alaska non-pollock trawl fisheries. The proposed rule would establish a 7,500 Chinook salmon prohibited species annual limit that would be seasonally apportioned among fishing vessel sectors. If a sector reached its Chinook salmon prohibited species limit, further directed fishing for groundfish by vessels in that sector and season would be prohibited. Vessel operators would be required to retain salmon until the number of salmon has been determined by the vessel or plant observer and the observers data collection has been completed. About 70 vessels could be affected by this action. This action could reduce revenues from the fisheries, if the Chinook salmon prohibited species limit is reached before the groundfish quota is harvested. The action may also increase costs if vessel operators move fishing operations or take other actions to lower their catch of Chinook salmon.

Timetable:

Action | Date | FR Cite
NPRM | 03/00/14 |

Regulatory Flexibility Analysis Required: Yes.

Agency Contact: James Balsiger, Administrator, Alaska Region, Department of Commerce, National Oceanic and Atmospheric Administration, 709 West Ninth Street, Juneau, AK 99801,Phone: 907 586-7221,Fax: 907 586-7465,Email: jim.balsiger@noaa.gov.

RIN: 0648-BD48

202. • Framework Adjustment 8 to the Atlantic Mackerel, Squid and Butterfish Fishery Management Plan

Legal Authority: 16 U.S.C. 1801 et seq.

Abstract: Framework 8 announces several changes to facilitate the operation of the butterfish discard cap on the longfin squid fishery. The alternatives proposed in Framework 8 would allocate the butterfish discard cap among the trimesters in the same percentages used for the trimester allocations for longfin squid. In addition, Framework 8 proposes allowing NMFS to transfer, in either direction, a certain amount of unused quota between the butterfish landing allocation and the discard cap on the longfin squid fishery. This would occur near the end of the year in order to optimally utilize the butterfish that is available for fishing each year.

Timetable:

Action | Date | FR Cite
NPRM | 11/00/13

Regulatory Flexibility Analysis Required: Yes.

Agency Contact: John K. Bullard, Northeast Regional Administrator, Department of Commerce, National Oceanic and Atmospheric Administration, 55 Great Republic Drive, Gloucester, MA 01930,Phone: 978 281-9287,Email: john.bullard@noaa.gov.

RIN: 0648-BD50

203. • Management Measures for Fishing Years 2014-2016 Tropical Tunas in the Eastern Pacific Ocean

Legal Authority: 16 U.S.C. 1801 et seq.

Abstract: This rule implements the Inter-American Tropical Tuna Commissions Resolution on a Multiannual Program for the Conservation of Tuna in the Eastern Pacific Ocean during 2014-2016 (C-13-01). This resolution requires that the United States restrict the catch of bigeye tuna in the longline fishery and the effort in the purse seine fishery in the eastern Pacific Ocean in each of the years 2014, 2015, and 2016 to prevent overfishing of bigeye and yellowfin tuna. Overall, the expected impacts on bigeye tuna and other living marine resources from this action are expected to be beneficial, because they would implement a landings limit on bigeye tuna and purse seine closure periods where they currently do not exist. This action is likely to have negligible economic impacts because: (i) the longline fishery based out of Hawaii operates primarily outside the Inter-American Tropical Tuna Commission Convention Area, (ii) based on historical data, NMFS predicts the 500-mt quota on bigeye tuna is not likely to be reached; and (iii) as for the purse seine closure, currently only five U.S. vessels of class 4 or greater fish in the Convention Area, all of which are capable of fishing outside of the Inter-American Tropical Tuna Commission Convention Area.

Timetable:

Action | Date | FR Cite
NPRM | 11/00/13 |

Regulatory Flexibility Analysis Required: Yes.

Agency Contact: Mark Helvey, Assistant Regional Administrator for Sustainable Fisheries, Department of Commerce, National Oceanic and Atmospheric Administration, 501 West Ocean Boulevard, Long Beach, CA 90802,Phone: 562 980-4040,Fax: 562 980-4047,Email: mark.helvey@noaa.gov.

RIN: 0648-BD52

204. • Implementation of the Inter-American Tropical Tuna Commission Resolution for the Conservation of Whale Sharks and the Collection and Analyses of Data on Fish Aggregating Devices

Legal Authority: 16 U.S.C. 951 et seq.; 16 U.S.C. 961 et seq.; 16 U.S.C. 971 et seq.

Abstract: This rule would implement the Inter-American Tropical Tuna Commissions Resolution intended to conserve whale sharks and collect information on fish aggregating devices. This action requires that by July 1, 2014, owners and operators of purse seine vessels in the eastern Pacific Ocean would be prohibited from setting a purse seine on a school of tuna associated with a live whale shark, if the shark is sighted prior to the beginning of the set. If a whale shark is encircled in the purse seine net the master of the vessel would be required to ensure that all reasonable steps are taken to ensure its safe release and report the details of the incident to the Inter-American Tropical Tuna Commission and NMFS. By January 1, 2015, owners and operators of purse seine vessels operating in the Inter-American Tropical Tuna Commission Convention area when fishing on fish aggregating devices would be required to collect and report the fish aggregating devices location and type. The data may be collected through a dedicated logbook, modifications to existing regional log sheets, or other domestic reporting procedures.

Timetable:

Action | Date | FR Cite
NPRM | 03/00/14

Regulatory Flexibility Analysis Required: Yes.

Agency Contact: Mark Helvey, Assistant Regional Administrator for Sustainable Fisheries, Department of Commerce, National Oceanic and Atmospheric Administration, 501 West Ocean Boulevard, Long Beach, CA 90802,Phone: 562 980-4040,Fax: 562 980-4047,Email: mark.helvey@noaa.gov.

RIN: 0648-BD53

205. • Implementation of the Inter-American Tropical Tuna Commission Resolution To Establish a Vessel Monitoring System Program in the Eastern Pacific Ocean

Legal Authority: 16 U.S.C. 951 et seq.; 16 U.S.C. 971 et seq.

Abstract: This rule would implement the Inter-American Tropical Tuna Commission's Resolution intended to require owners and operators of tuna-fishing vessels to have installed, activate, carry and operate vessel monitoring system units (also known as mobile transmitting units). This regulation would apply to owners and operators of tuna-fishing vessels 24 meters or more in length operating in the eastern Pacific Ocean. The vessel monitoring system units would have to be type-approved and authorize the Inter-American Tropical Tuna Commission and NMFS to receive and relay transmissions (also called position reports) from the vessel monitoring system unit. Vessel monitoring systems may enhance the safety of some vessels by allowing the vessels location to be tracked, which could assist in rescue efforts. This regulation would apply to commercial vessels and would not apply to recreational or charter vessels. This rule would apply to approximately seventy-four vessels, however, roughly thirty-eight of these vessels are already subject to vessel monitoring system requirements under the Western and Central Pacific Fisheries Commission. Due to the relatively small number of vessels affected, this rule is not expected to garner public opposition or congressional interest.

Timetable:

Action | Date | FR Cite
NPRM | 11/00/13

Regulatory Flexibility Analysis Required: Yes.

Agency Contact: Mark Helvey, Assistant Regional Administrator for Sustainable Fisheries, Department of Commerce, National Oceanic and Atmospheric Administration, 501 West Ocean Boulevard, Long Beach, CA 90802,Phone: 562 980-4040,Fax: 562 980-4047,Email: mark.helvey@noaa.gov.

RIN: 0648-BD54

206. • Implementation of the Inter-American Tropical Tuna Commission Resolution To Adopt Conservation and Management Measures for Pacific Bluefin Tuna in the Eastern Pacific Ocean

Legal Authority: 16 U.S.C. 951 et seq.; 16 U.S.C. 971 et seq.

Abstract: This action proposes regulations adopted by the Inter-American Tropical Tuna Commission that would place a limit on commercial harvests of Pacific bluefin tuna in the eastern Pacific Ocean in 2014. The Inter-American Tropical Tuna Commission resolution imposes an international aggregate catch limit of 5,000 metric tons for commercial fleets in the Eastern Pacific Ocean and, as in past years, the Resolution allows a minimum of 500 metric tons for nations such as the United States that have historically fished Pacific bluefin tuna in the Eastern Pacific Ocean but do not harvest large amounts. The rule is expected to have a beneficial impact on Pacific bluefin tuna and other living marine resources since it would extend catch limits currently set to expire December 31, 2013. This rule is likely to have negligible economic impacts because the U.S. fleets that catch Pacific bluefin tuna have not caught more than 500 metric tons of bluefin in more than a decade.

Timetable:

Action | Date | FR Cite
NPRM | 12/00/13

Regulatory Flexibility Analysis Required: Yes.

Agency Contact: Mark Helvey, Assistant Regional Administrator for Sustainable Fisheries, Department of Commerce, National Oceanic and Atmospheric Administration, 501 West Ocean Boulevard, Long Beach, CA 90802,Phone: 562 980-4040,Fax: 562 980-4047,Email: mark.helvey@noaa.gov.

RIN: 0648-BD55

207. • Framework Adjustment 8 to the Monkfish Fishery Management Plan

Legal Authority: 16 U.S.C. 1801 et seq.

Abstract: Framework Adjustment 8 would specify acceptable biological catch amounts and annual catch limits for the monkfish fishery during fishing years 2014-2016 based on an updated stock assessment completed in April 2013. This action would also set monkfish days-at-sea allocations and trip limits for both the Northern and Southern Fishery Management Areas to achieve recommended annual catch targets. In addition, this action would allow vessels issued a limited access monkfish Category H permit to fish throughout the Southern Fishery Management Area. Both the directed and incidental monkfish fisheries would be affected by this action. Specifically, Category H vessels would be provided with greater flexibility to fish for monkfish in a broader geographical area. Since the fishery has not fully harvested available quotas in recent years, it is not expected that potential increases or decreases in catch allowances are likely to have a substantial economic effect.

Timetable:

Action | Date | FR Cite
NPRM | 04/00/14

Regulatory Flexibility Analysis Required: Yes.

Agency Contact: John K. Bullard, Northeast Regional Administrator, Department of Commerce, National Oceanic and Atmospheric Administration, 55 Great Republic Drive, Gloucester, MA 01930,Phone: 978 281-9287,Email: john.bullard@noaa.gov.

RIN: 0648-BD56

208. • South Atlantic Coastal Migratory Pelagics Framework Action 2013 (Section 610 Review)

Legal Authority: 16 U.S.C. 1801 et seq.

Abstract: Currently in the South Atlantic, transfer of harvested fish at sea is prohibited for any species under a commercial trip limit, and only two gillnets are allowed on a federally permitted Spanish mackerel vessel. In some instances the trip limit may be exceeded with just one gillnet set, and the excess fish must be discarded. Most discarded fish caught in gillnet gear die due to trauma caused during capture. The Framework Action would allow a portion of a gillnet and its contents to be transferred from a vessel that has met the Spanish mackerel trip limit to another vessel that has not yet reached the trip limit. Allowing transfer at sea for federally permitted Spanish mackerel vessels using gillnet gear is intended to reduce dead discards and minimize waste when catch in one net exceeds the trip limit for the vessel. Additionally, the Framework Action would modify the commercial trip limits for Atlantic king mackerel in the Florida east coast subzone. The current system of trip limits may increase the rate of harvest causing the commercial sector to close before Lent, the most lucrative part of the fishing season. Therefore, the trip limit modifications that would be implemented through the Framework Action are expected to help minimize lost opportunities to fish and optimize profitability in the king mackerel sector of the coastal migratory pelagics fishery.

Timetable:

Action | Date | FR Cite
NPRM | 11/00/13

Regulatory Flexibility Analysis Required: Yes.

Agency Contact: Roy E. Crabtree, Southeast Regional Administrator, Department of Commerce, National Oceanic and Atmospheric Administration, 263 13th Avenue South, St. Petersburg, FL 33701,Phone: 727 824-5305,Fax: 727 824-5308,Email: roy.crabtree@noaa.gov.

RIN: 0648-BD58

209. • Implementation of a Program for Transshipments by Large Scale Fishing Vessels in the Eastern Pacific Ocean

Legal Authority: 16 U.S.C. 951 et seq.; 16 U.S.C. 971 et seq.

Abstract: This rule would establish the Inter-American Tropical Tuna Commission program to monitor transshipments by large-scale tuna fishing vessels. This rule would govern transshipments by U.S. large-scale tuna fishing vessels and carrier, or receiving, vessels. The rule would establish: Criteria for transshipping in port; criteria for transshipping at sea by longline vessels, only to an authorized carrier vessel with an Inter-American Tropical Tuna Commission observer onboard and an operational vessel monitoring system; and the Pacific Transshipment Declaration Form, which must be used to report transshipments in the Inter-American Tropical Tuna Commission Convention Area. The rule is neither applicable to troll or pole-and-line vessels, nor to vessels that transship fresh fish at sea. Very few transshipments occur annually and occurrence in the Eastern Pacific Ocean is uncertain. The vessels which may transship are from the Western and Central Pacific Ocean fleet, which cross into the Eastern Pacific Ocean. A similar rule was adopted in the Western and Central Pacific Ocean and NMFS calculated that an average of twenty-four at-sea transshipments of fish caught by longline gear in the Western and Central Pacific Ocean have occurred annually from 1993 through 2009; only four in 2011. Although it is unknown how many may occur in the Eastern Pacific Ocean, it is likely much less than twenty-four.

Timetable:

Action | Date | FR Cite
NPRM | 11/00/13

Regulatory Flexibility Analysis Required: Yes.

Agency Contact: Mark Helvey, Assistant Regional Administrator for Sustainable Fisheries, Department of Commerce, National Oceanic and Atmospheric Administration, 501 West Ocean Boulevard, Long Beach, CA 90802,Phone: 562 980-4040,Fax: 562 980-4047,Email: mark.helvey@noaa.gov.

RIN: 0648-BD59

210. • Amendment 45 to the Fishery Management Plan for Bering Sea and Aleutian Islands King and Tanner Crab Freezer Longline Catcher/Processor Pacific Cod Sideboard Removal

Legal Authority: 16 U.S.C. 1801 et seq.

Abstract: This rule would establish conditions for the removal of Gulf of Alaska Pacific cod catch limits, known as sideboards, which apply to some catcher/processor vessels using hook-and-line gear, also known as freezer longliners. The newly reorganized sideboard limits have effectively eliminated the ability of these stakeholders to participate in these GOA fisheries. The rule would remove the Gulf of Alaska Pacific cod sideboards from 6 freezer longline vessels if owners of vessels endorsed to catch and process Pacific cod in the Western Gulf of Alaska, Central Gulf of Alaska, or both (a total of 9 vessels) agree to removal the sideboards, within one year from the effective date of a final rule. If an agreement is not reached by the deadline the sideboarded vessels would not be able to participate in the Gulf of Alaska fisheries. The requirement for an agreement is intended to promote cooperation among all affected parties prior to the removal of sideboards.

Timetable:

Action | Date | FR Cite
NPRM | 05/00/14

Regulatory Flexibility Analysis Required: Yes.

Agency Contact: James Balsiger, Administrator, Alaska Region, Department of Commerce, National Oceanic and Atmospheric Administration, 709 West Ninth Street, Juneau, AK 99801,Phone: 907 586-7221,Fax: 907 586-7465,Email: jim.balsiger@noaa.gov.

RIN: 0648-BD61

211. • Change to Fishing Season Start Date; Pacific Sardine Fishery; Coastal Pelagic Species Fishery Management Plan

Legal Authority: 16 U.S.C. 1801 et seq.

Abstract: This action would implement regulations to change the date of the start of the Pacific sardine fishery from January 1 to July 1. Each year NMFS implements regulations that set the annual quota for the Pacific sardine fishing season that begins January 1 ends December 31 and that is divided into three seasonal allocation periods based on set percentages in the Fishery Management Plan. These annual quotas are based in large part on the results of annual stock assessments that provide biomass estimates from which the quota is calculated. This action changes the annual Pacific sardine fishing season so that it begins July 1 and ends June 30 of the following year and would allow the completion of the research and science that is used for the annual stock assessments. No changes to the annual allocation structure would be made, as the percentages associated with each seasonal allocation would remain the same, as would the current quota roll-over provisions.

Timetable:

Action | Date | FR Cite
NPRM | 11/00/13

Regulatory Flexibility Analysis Required: Yes.

Agency Contact: Mark Helvey, Assistant Regional Administrator for Sustainable Fisheries, Department of Commerce, National Oceanic and Atmospheric Administration, 501 West Ocean Boulevard, Long Beach, CA 90802,Phone: 562 980-4040,Fax: 562 980-4047,Email: mark.helvey@noaa.gov.

RIN: 0648-BD63

212. • Information Collection Program for Atlantic Surfclam and Ocean Quahog Fisheries

Legal Authority: 16 U.S.C. 1801 et seq.

Abstract: NMFS is implementing this information collection program at the request of the Mid-Atlantic Fishery Management Council (Council). This program will collect additional information about the individuals who hold and/or control Individual Transferable Quota in the Atlantic surfclam and ocean quahog fisheries. This information will be used by the Council in the consideration and development of excessive shares cap(s) in these Individual Transferable Quota fisheries.

Timetable:

Action | Date | FR Cite
NPRM | 11/00/13 |

Regulatory Flexibility Analysis Required: Yes.

Agency Contact: John K. Bullard, Northeast Regional Administrator, Department of Commerce, National Oceanic and Atmospheric Administration, 55 Great Republic Drive, Gloucester, MA 01930,Phone: 978 281-9287,Email: john.bullard@noaa.gov.

RIN: 0648-BD64

213. • 2014 Specifications and Management Measures for the Atlantic Mackerel, Squid and Butterfish Fishery Management Plan

Legal Authority: 16 U.S.C. 1801 et seq.

Abstract: This action establishes catch levels and associated management measures for the 2014 fishing year for species managed under the Atlantic Mackerel, Squid, and Butterfish Fishery Management Plan. The Mid-Atlantic Fishery Management Council reaffirmed the 3-year catch level recommendations for Illex squid and longfin squid (2012-2014), and for Atlantic mackerel (2013-2015), so no changes are proposed for catch levels for those species.

The proposed action would:

• Increase the butterfish ABC by 8 percent and the butterfish landings limit by 24 percent compared to 2013;

• Set a 236 mt cap on river herring and shad catch in the mackerel fishery;

• Raise the post-closure possession limit for longfin squid to 10,000 lb for vessels targeting Illex squid; and

• Change the butterfish Phase 3 trip limit to 600 lb (from 500 lb) for longfin squid/butterfish moratorium permit holders to make it consistent with the incidental butterfish trip limit.

Timetable:

Action | Date | FR Cite
NPRM | 11/00/13

Regulatory Flexibility Analysis Required: Yes.

Agency Contact: John K. Bullard, Northeast Regional Administrator, Department of Commerce, National Oceanic and Atmospheric Administration, 55 Great Republic Drive, Gloucester, MA 01930,Phone: 978 281-9287,Email: john.bullard@noaa.gov.

RIN: 0648-BD65

214. • Modifications to Identification Markings on Fishing Gear Marker Buoys

Legal Authority: 16 U.S.C. 1801 et seq.

Abstract: This proposed rule would eliminate the requirement that buoys marking the location of commercial fishing gear be marked with the vessel's name, in addition to a vessel identification number. Regulations in 50 CFR part 679 require buoy markings to make it possible to identify the vessel from which the gear was deployed. Experience shows that it is not necessary to mark buoys with both the vessel's name and Federal fisheries permit number. While one vessel may share the same name as another vessel, vessel identification numbers are exclusive and unique to the recipient vessel. The purpose of this action is to reduce regulatory burdens by eliminating the requirement to mark buoys with the vessel's name. The proposed action will reduce costs to vessel owners by reducing the labor and materials needed to mark buoys.

Timetable:

Action | Date | FR Cite
NPRM | 12/00/13

Regulatory Flexibility Analysis Required: Yes.

Agency Contact: James Balisger, Regional Administrator, Department of Commerce, National Oceanic and Atmospheric Administration, P.O. Box 21668, Juneau, AK 99802,Phone: 907 586-7221,Fax: 907 586-7249,Email: james.balsiger@noaa.gov.

RIN: 0648-BD66

215. Designation of Critical Habitat for the North Atlantic Right Whale

Legal Authority: 16 U.S.C. 1361 et seq.; 16 U.S.C. 1531-1543

Abstract: NMFS proposes to designate critical habitat for the North Atlantic right whale. This proposal would result in an expansion of critical habitat in the northeast feeding area (Gulf of Maine-Georges Bank region) and the southeast calving area (Florida to North Carolina) compared to what was designated in 1994 for right whales.

Timetable:

Action | Date | FR Cite
NPRM | 12/00/13

Regulatory Flexibility Analysis Required: Yes.

Agency Contact: Donna Wieting, Fishery Biologist, Office of Protected Resources, Department of Commerce, National Oceanic and Atmospheric Administration, National Marine Fisheries Service, 1315 East-West Highway, Silver Spring, MD 20910, Phone: 301 713-2322.

RIN: 0648-AY54

216. Amendment and Updates to the Bottlenose Dolphin Take Reduction Plan

Legal Authority: 16 U S C1361 et seq.; 16 U.S.C. 1531 et seq.

Abstract: This action would amend regulations under the Bottlenose Dolphin Take Reduction Plan (Plan) to reduce bottlenose dolphin serious injuries and mortalities incidental to the Virginia Pound net fishery. The Plan recommends the year-round use of modified leaders for offshore pound nets within parts of the Chesapeake Bay and Virginia coastal waters. Regulations for Virginia Pound Nets are currently implemented under the Endangered Species Act for sea turtle conservation. The Plan recommended similar regulations to those currently enacted under the Endangered Species Act; however, the regulations under the Plan will offer greater conservation benefits to both bottlenose dolphins and sea turtles. Because the regulations may affect current sea turtle regulations, a joint-rulemaking will be conducted under both the Marine Mammal Protection Act and Endangered Species Act to amend: (1) The Plan under the Marine Mammal Protection Act, proposing Virginia pound net requirements; and (2) current Federal sea turtle regulations for Virginia pound nets under the Endangered Species Act to ensure consistency between regulations.

Timetable:

Action | Date | FR Cite
NPRM | 11/00/13 |

Regulatory Flexibility Analysis Required: Yes.

Agency Contact: Donna Wieting, Fishery Biologist, Office of Protected Resources, Department of Commerce, National Oceanic and Atmospheric Administration, National Marine Fisheries Service, 1315 East-West Highway, Silver Spring, MD 20910, Phone: 301 713-2322.

RIN: 0648-BB37

DEPARTMENT OF COMMERCE (DOC)

National Oceanic and Atmospheric Administration (NOAA)

Final Rule Stage

National Marine Fisheries Service

217. American Lobster Fishery; Fishing Effort Control Measures To Complement Interstate Lobster Management Recommendations by the Atlantic States Marine Fisheries Commission

Legal Authority: 16 U.S.C. 5101 et seq.

Abstract: The action would limit future access in the Lobster Conservation Management Area (Area) 2 and Outer Cape Area lobster trap fishery based on historic participation criteria, and implement a transferable trap program in Area 2, Area 3, and the Outer Cape Area as recommended by the Atlantic States Marine Fisheries Commission. NMFS proposes to use the same historic participation data and qualification criteria used by State agencies to qualify State lobstermen fishing in the State waters of the subject management areas.

Timetable:

Action | Date | FR Cite
ANPRM | 05/10/05 | 70 FR 24495
ANPRM Comment Period End | 06/09/05 |
Notice of Public Meeting | 05/03/10 | 75 FR 23245
NPRM | 06/12/13 | 78 FR 35217
Final Action | 12/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-AT31

218. Amendment 14 to the Atlantic Mackerel, Squid, and Butterfish Fishery Management Plan

Legal Authority: 16 U.S.C. 1801 et seq.

Abstract: The purpose of Amendment 14 is primarily to minimize river herring and shad bycatch in the Atlantic mackerel fishery and implement an effective program for monitoring river herring and shad bycatch in the Mackerel, Squid and Butterfish fisheries. This action proposes measures to expand reporting requirements for permit holders; increase at-sea observer coverage; and establish a mortality cap on river herring and shad in the mackerel fishery. This action is being taken because there is concern about the status of river herring and shad stocks throughout their range, and a push to reduce all sources of stock mortality, including fishing mortality.

Timetable:

Action | Date | FR Cite
Notice of Intent | 06/09/10 | 75 FR 32745
Notice of Availability | 08/12/13 | 78 FR 48852
NPRM | 08/29/13 | 78 FR 53404
Final Action | 12/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-AY26

219. Amendment 5 to the Atlantic Herring Fishery Management Plan

Legal Authority: 16 U.S.C. 1801

Abstract: The purpose of Amendment 5 is to minimize bycatch in the Atlantic herring fishery and improve the collection of real time catch data. Amendment 5 would increase observer coverage, improve at-sea sampling, include measures to reduce net slippage, and include measures to address bycatch. This action is being taken to more accurately characterize Atlantic herring landings, minimize and monitor bycatch of river herring in the Atlantic herring fishery, and to improve monitoring of Atlantic herring fishing activity in groundfish closed areas.

Timetable:

Action | Date | FR Cite
Supplemental Notice of Intent | 12/28/09 | 74 FR 68576
Notice of Availability | 04/22/13 | 78 FR 23733
NPRM | 06/03/13 | 78 FR 33020
Final Action | 11/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-AY47

220. Fisheries Off West Coast States; Pacific Coast Groundfish Fishery; Trawl Rationalization Program; Cost Recovery Program

Legal Authority: 16 U.S.C. 1801 et seq.

Abstract: This action would implement cost recovery for the Pacific Coast Groundfish Trawl Rationalization Program. Following final action on Amendment 20 to the Pacific Coast Groundfish Fishery Management Plan by the Pacific Fishery Management Council, NMFS implemented the trawl rationalization program on January 11, 2011. In accordance with the Magnuson-Stevens Fishery Conservation and Management Act, the Secretary of Commerce is required to collect a fee to recover the actual costs directly related to the management, data collection, and enforcement of any limited access privilege program (LAPP), which includes the trawl rationalization program. The fee will not exceed 3 percent of the ex-vessel value of the fish harvested under the LAPP.

Timetable:

Action | Date | FR Cite
NPRM | 02/01/13 | 78 FR 7371
Final Action | 11/00/13 |

Regulatory Flexibility Analysis Required: Yes.

Agency Contact: Barry Thom, Deputy Regional Administrator, Northwest Region, NMFS, Department of Commerce, National Oceanic and Atmospheric Administration, Building 1, 7600 Sand Point Way NE., Seattle, WA 48115-0070, Phone: 206 526-6150, Fax: 206 526-6426, Email: barry.thom@noaa.gov.

RIN: 0648-BB17

221. Amendment 89 to the Gulf of Alaska Groundfish Fishery Management Plan Area Closures for Chionoecetes Bairdi Crab Protection in Gulf of Alaska Groundfish Fisheries

Legal Authority: 16 U.S.C. 1540; 16 U.S.C. 1801 et seq.; 16 U.S.C. 3631 et seq.; 16 U.S.C. 773 et seq.; Pub. L. 105-277; Pub. L. 106-31

Abstract: This action would close a portion of Marmot Bay, northeast of Kodiak Island, to the use of pot and trawl gear (with the exception of pelagic gear used to target pollock) in groundfish fisheries year-round and require additional observer coverage (100 percent for trawl vessels and 30 percent for pot vessels) in two areas east of Kodiak Island—the Chiniak Gully and State of Alaska Statistical Area 525702. These additional observer coverage requirements are expected to be rescinded with the implementation of the restructured Observer Program. This action is necessary to protect stocks of Tanner crab near Kodiak Islands from the effects of using non-pelagic trawl and pot gear used to target groundfish in Marmot Bay and to provide improved estimates of the incidental catch of Tanner crab in two areas east of Kodiak Island by vessels using non-pelagic trawl and pot gear and to accomplish the goals and objectives of the Fishery Management Plan for Groundfish of the Gulf of Alaska. The intended effect of this action is to conserve and manage the fishery resources in the Gulf of Alaska.

Timetable:

Action | Date | FR Cite
Notice of Availability | 06/03/13 | 78 FR 33040
Proposed Rule | 06/17/13 | 78 FR 36150
Final Action | 04/00/14 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BB76

222. Amendment to the Vessel Ownership Requirements of the Individual Fishing Quota Program for Fixed-Gear Pacific Halibut and Sablefish Fisheries In and Off of Alaska

Legal Authority: 16 U.S.C. 1801 et seq.; 16 U.S.C. 3631 et seq.; 16 U.S.C. 773 et seq.; Pub. L. 108-447

Abstract: This action proposes a regulatory amendment to the vessel ownership requirements of the Individual Fishing Quota Program for fixed-gear Pacific halibut and sablefish fisheries in and off of Alaska. This action proposes to require initial recipients of certain classes of quota share to have held a minimum of 20 percent ownership interest in the vessel for at least 12 consecutive months prior to the submission of an application to hire a master for the purposes of fishing an Individual Fishing Quota permit. This proposed action also would temporarily exempt from the 12-month ownership requirement an initial recipient whose vessel has been totally lost, as by sinking or fire, or so damaged that the vessel would require at least 60 days of shipyard time to be repaired. This action is necessary to maintain a predominantly owner-operated fishery.

Timetable:

Action | Date | FR Cite
NPRM | 10/31/12 | 77 FR 65843
Final Action | 11/00/13 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BB78

223. Georges Bank Yellowtail Flounder Emergency Action To Provide a Partial Exemption From Accountability Measures to the Atlantic Scallop Fishery

Legal Authority: 16 U.S.C. 1801 et seq.

Abstract: This action, requested by the New England Fishery Management Council, exempts the Atlantic sea scallop fishery from any accountability measure for catch of Georges Bank yellowtail flounder exceeding the revised sub-annual catch limit of 156.9 mt up to the initial sub-annual catch limit level of 307.5 mt. By exempting the scallop fleet from accountability measures at the lower revised 156.9 mt sub-ACL, but maintaining accountability at the 307.5 mt level initially set for the fishing year, there remains a need for the scallop fleet to mitigate yellowtail flounder catch but to do so within the context of the initial level established for the fishing year. This specific accountability measure is not needed to comply with Magnuson Stevens Fishery Conservation and Management Act requirements because there is an accountability measure at the fishery level that remains unchanged by this proposed action. Any overage of the fishery level ACL is repaid pound-for-pound in a subsequent fishing year.

Timetable:

Action | Date | FR Cite
NPRM | 10/01/12 | 77 FR 59883
NPRM Comment Period End | 10/31/12 |
Final Action | 11/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC33

224. Amendment 95 to the Fishery Management Plan for Groundfish of the Gulf of Alaska

Legal Authority: 16 U.S.C. 1801 et seq.

Abstract: This action implements Amendment 95 to the Fishery Management Plan for Groundfish of the Gulf of Alaska. This action modifies halibut prohibited species catch management in the Gulf of Alaska to (1) establish the Gulf of Alaska halibut prohibited species catch limits in Federal regulation; (2) reduce the Gulf of Alaska halibut prohibited species catch limits for the trawl, hook and line catcher/processor and catcher vessel sectors, and the hook and line demersal shelf rockfish fishery in the Southeast Outside District; and (3) allow two additional options for vessels to better maintain groundfish harvest while achieving the halibut prohibited species catch reduction of this action.

Timetable:

Action | Date | FR Cite
Notice | 08/29/13 | 78 FR 53419
NPRM | 08/29/13 | 78 FR 53419
Final Action | 12/00/13 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BC39

225. Modification to the Hired Skipper Regulations for Management of the Individual Fishing Quota Program for the Fixed-Gear Commercial Fisheries for Pacific Halibut and Sablefish in Waters of Alaska

Legal Authority: 16 U.S.C. 1801 et seq.; 16 U.S.C. 773 et seq.

Abstract: NMFS proposes to amend the hired master regulations of the Individual Fishing Quota Program for the fixed-gear commercial Pacific halibut and sablefish fisheries in the Bering Sea and Aleutian Islands management area and the Gulf of Alaska. The Individual Fishing Quota Program allows initial recipients of catcher vessel halibut and sablefish quota share to hire a vessel master to harvest Individual Fishing Quota derived from the quota share. When a hired master fishes an initial recipients Individual Fishing Quota, the initial recipient is exempt from being onboard the vessel. If approved, this action would remove the owner-onboard exemption to hire a master to harvest Individual Fishing Quota derived from quota share that an initial recipient received by transfer after February 12, 2010. Between February 12, 2010 and the effective date of this action, initial recipient quota share transferred into a quota share block of the same category would retain the hired master privilege. After the effective date of this action, no hired master privilege would be retained on initial recipient quota share consolidated with quota share of the same category. This action is necessary to maintain a predominantly owner-operated fishery.

Timetable:

Action | Date | FR Cite
NPRM | 04/26/13 | 78 FR 24707
Final Action | 11/00/13 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BC62

226. 2013 Monkfish Emergency Action

Legal Authority: 16 U.S.C. 1801 et seq.

Abstract: At its November 2012 meeting, the New England Fishery Management Council (Council) requested that the Secretary of Commerce implement this Emergency action to eliminate monkfish possession limits in the Northern Fishery Management Area during fishing year 2013 due to the substantially reduced groundfish catch limits. This action eliminated monkfish possession limits for the vessels that have been issued both a limited access monkfish permit and a Northeast multispecies (groundfish) permit and are simultaneously using both a monkfish and a groundfish day-at-sea in the Northern Fishery Management Area (Management Area). By eliminating the possession limits in these specific cases, this action increased monkfish possession limits for the directed monkfish fishery in the NFMA. It is expected that this action allows some of the directed fishing vessels to land more monkfish per trip, which would result in an increase in revenue for such vessels.

Timetable:

Action | Date | FR Cite
NPRM | 02/25/13 | 78 FR 12708
Interim Final Rule | 04/30/13 | 78 FR 25214
Extension of Interim Measures | 11/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC79

227. Allowing Northeast Multispecies Sector Vessels Access to Year Round Closed Areas

Legal Authority: 16 U.S.C. 1801 et seq.

Abstract: This action, if approved, would allow Northeast Multispecies vessels enrolled in a sector to fish in any of three year-round closed areas on Georges Bank during select times of the 2013 fishing year. The three areas under consideration include portions of the Nantucket Lightship Closed Area I, Closed Area I, and Closed Area II. All gear types would be permitted to fish in the Nantucket Lightship Closed Area year-round. Trawl vessels fishing with selective gear and vessels using hooks would be permitted to fish in Closed Areas I and II for portion of the fishing year. This action is being proposed to increase access to underharvest groundfish stocks while reducing potential impacts on groundfish stocks that are considered overfished or subject to overfishing.

Timetable:

Action | Date | FR Cite
NPRM | 07/11/13 | 78 FR 41772
Final Action | 11/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BD09

228. Amendment 2 to the Fishery Management Plan for the Queen Conch Resources of Puerto Rico and The USVI: Compatibility of Trip and Bag Limits in the Management Area of St. Croix, USVI

Legal Authority: 16 U.S.C. 1801 et seq.

Abstract: This regulatory amendment addresses the current incompatibility between certain Federal and USVI regulations related to the harvest of queen conch. Fishing and possessing queen conch in the exclusive economic zone is only allowed in the area of Lang Bank, to the east of St. Croix, USVI. However, current regulations regarding commercial trip limits and recreational bag limits for the harvest of queen conch in Federal waters are not compatible with USVI regulations. The USVI has expressed interest in having Federal regulations modified to make them compatible with the territorial limits to facilitate enforcement efforts, enhance compliance by fishers, and allow for more efficient management of queen conch resources in the U.S. Caribbean. In this regulatory amendment, the Caribbean Fishery Management Council chose to modify the commercial trip limit but leave the recreational bag limit unchanged. Thus, the rule would change the commercial trip limit from 150 queen conch per licensed commercial fisher per day to 200 queen conch per vessel per day regardless of the number of licensed commercial fishers onboard.

Timetable:

Action | Date | FR Cite
NPRM | 06/07/13 | 78 FR 34310
Final Action | 11/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD15

229. Framework Adjustment 2 to the Atlantic Herring Fishery Management Plan and Management Measures for Atlantic Herring for the 2013-2015 Fishing Years

Legal Authority: 16 U.S.C. 1801 et seq.

Abstract: Framework 2 would allow the Council to use the specifications process to split annual catch limits (ACLs) seasonally (by month) for the Atlantic herring management areas. This will increase operational flexibility within the herring fishery by allowing for more precise tailoring of the catch limits for each management area. Framework 2 also proposes a policy for authorizing annual carryover of unharvested herring ACLs under specific conditions. This will provide increased opportunity to fish for unused herring ACL amounts from the previous year. Combined, these measures provide a greater opportunity to adjust for specific stock conditions. The Atlantic herring fishery specifications are annual catch amounts (for the 2013-2015 fishing years, January-December). These specifications are routine and are set for a duration of three years. If implemented, these specifications will retain or increase the current catch limit levels and will continue to prevent overfishing of the herring resource and achieve optimum yield. Further, these catch limits established in these specifications set a constant catch amount available to the industry that provides a stable allowable catch for 3-year business planning purposes.

Timetable:

Action | Date | FR Cite
NPRM | 08/02/13 | 78 FR 46897
Final Action | 11/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BD17

230. • Modification of Vessel Monitoring System Requirements for Atlantic Highly Migratory Species Fisheries

Legal Authority: 16 U.S.C. 1801 et seq.; 16 U.S.C. 971 et seq.

Abstract: NMFS is preparing a rule that considers modifying the current requirements concerning the use of Electronic Mobile Transmitting Unit (E-MTU) Vessel Monitoring Systems (VMS) units in Atlantic Highly Migratory Species (HMS) fisheries. The rule considers modifying the requirements for providing hail-in/hail-out declarations depending on whether the vessel is fishing for HMS. The rule also considers modifying when the VMS unit must be on and activated. The revised regulations would provide additional flexibility for vessel operators while continuing to provide the National Oceanic and Atmospheric Administration Office of Law Enforcement (NOAA OLE) with enhanced communication with HMS vessels at sea, improve enforcement capabilities of current regulations, and provide a secondary safety capability. This action is not significant under the meaning of Executive Order 12866 since it is unlikely to make major changes to current management measures, is below the economic threshold of impact, and has no novel or legal policy associated with it.

Timetable:

Action | Date | FR Cite
NPRM | 08/29/13 | 78 FR 53397
Final Action | 01/00/14 |

Regulatory Flexibility Analysis Required: Yes.

Agency Contact: Emily Menashes, Acting Director, Office of Sustainable Fisheries, Department of Commerce, National Oceanic and Atmospheric Administration, 1315 East-West Highway, Silver Spring, MD 20910, Phone: 301 713-2234, Email: emily.menashes@noaa.gov.

RIN: 0648-BD24

231. • Pacific Coast Groundfish Trawl Rationalization Program; Second Program Improvement and Enhancement Rule

Legal Authority: 16 U.S.C. 1801 et seq.

Abstract: This action will implement trailing actions for the Pacific coast groundfish trawl rationalization program in order to further improve and refine the program. Since implementation of the program in January 2011, the Pacific Fishery Management Council (Council) and NMFS have developed numerous trailing actions to the program. This action includes multiple components that either implement original provisions of the program, or increase flexibility or efficiency, or address minor revisions/clarifications. Implementation of Quota share transfer regulations is also included in this action. The other components of this action are intended to increase flexibility and efficiency for participants and the Agency, and to make minor clarifications to the program regulations.

Timetable:

Action | Date | FR Cite
NPRM | 07/19/13 | 78 FR 43125
Final Action | 11/00/13 |

Regulatory Flexibility Analysis Required: Yes.

Agency Contact: Barry Thom, Deputy Regional Administrator, Northwest Region, NMFS, Department of Commerce, National Oceanic and Atmospheric Administration, Building 1, 7600 Sand Point Way NE., Seattle, WA 48115-0070, Phone: 206 526-6150, Fax: 206 526-6426, Email: barry.thom@noaa.gov.

RIN: 0648-BD31

232. • Framework Action To Increase Quotas for the Red Snapper Component of the Reef Fish Fishery and Establish a Second Recreational Season

Legal Authority: 16 U.S.C. 1801 et seq.

Abstract: This action would set the 2013 quotas for commercial and recreational harvest of red snapper in the Gulf of Mexico and open a second season for recreational fishing. A stock assessment was completed in April 2013. The Scientific and Statistical Committee reviewed the assessment in May 2013, and determined the catch could be increased. The Council will consider a range of alternatives that increase the total quota from 8.46 million pounds to 10.0-12.1 million pounds at a special meeting on July 17, 2013. The commercial and recreational sector quotas would be based on the current 51 percent commercial and 49 percent recreational allocation. The red snapper commercial sector is managed under an individual fishing quota program. The increase to the commercial quota will be distributed to individual fishing quota shareholders on or shortly after the effective date of the final rule. The increase to the recreational quota will allow additional days to be added to the red snapper recreational fishing season. The timing of the fishing season does not allow this rule to be in place before the closure date of June 28 currently set for the 2013 fishing season; therefore, a second season is proposed for Fall 2013. The duration of this second season would be determined based on the quota and the opening date.

Timetable:

Action | Date | FR Cite
NPRM | 08/14/13 | 78 FR 49440
Final Action | 11/00/13 |

Regulatory Flexibility Analysis Required: Yes.

Agency Contact: Roy E. Crabtree, Southeast Regional Administrator, Department of Commerce, National Oceanic and Atmospheric Administration, 263 13th Avenue South, St. Petersburg, FL 33701,Phone: 727 824-5305,Fax: 727 824-5308,Email: roy.crabtree@noaa.gov.

RIN: 0648-BD39

233. Revision of Hawaiian Monk Seal Critical Habitat

Legal Authority: 16 U.S.C. 1533

Abstract: NOAA Fisheries is developing a final rule to designate critical habitat for the Hawaiian monk seal in the main and Northwestern Hawaiian Islands. In response to a 2008 petition from the Center for Biological Diversity, Kahea, and the Ocean Conservancy to revise Hawaiian monk seal critical habitat, NOAA Fisheries published a proposed rule in June 2011 to revise Hawaiian monk seal critical habitat by adding critical habitat in the main Hawaiian Islands and extending critical habitat in the Northwestern Hawaiian Islands. Proposed critical habitat includes both marine and terrestrial habitats (e.g., foraging areas to 500 meter depth, pupping beaches, etc.). To address public comments on the proposed rule, NOAA Fisheries is augmenting its prior economic analysis to better describe the anticipated costs of the designation. NOAA Fisheries is analyzing new tracking data to assess monk seal habitat use in the main Hawaiian Islands. That may lead to some reduction in foraging area critical habitat for the main Hawaiian Islands to better reflect where preferred foraging features may be found.

Timetable:

Action | Date | FR Cite
NPRM | 06/02/11 | 76 FR 32026
Notice of Public Meetings | 07/14/11 | 76 FR 41446
Other | 06/25/12 | 77 FR 37867
Final Action | 03/00/14

Regulatory Flexibility Analysis Required: Yes.

Agency Contact: Donna Wieting, Fishery Biologist, Office of Protected Resources, Department of Commerce, National Oceanic and Atmospheric Administration, National Marine Fisheries Service, 1315 East-West Highway, Silver Spring, MD 20910,Phone: 301 713-2322.

RIN: 0648-BA81

234. Removal of the Sunset Provision of the Final Rule Implementing Vessel Speed Restrictions To Reduce the Threat of Ship Collisions With North Atlantic Right Whales

Legal Authority: 16 U.S.C. 1361 et seq.; 16 U.S.C. 1531 et seq.

Abstract: In 2008 NMFS promulgated a regulation designed to reduce the likelihood of deaths and serious injuries to endangered North Atlantic right whales that result from collisions with ships. The rule implemented speed restrictions of no more than 10 knots applying to all vessels 65 ft long or greater in certain locations and times of the year along the east coast of the United States. In view of uncertainties regarding the manner in which ships and whales interact and the burdens imposed on vessel operators, the rule included a sunset clause under which the rule would expire on December 9, 2013. NMFS has proposed removing the sunset provision with the current provisions remaining in place, and has sought comment on eliminating or reinstating the sunset provision, studies and metrics that might be used to evaluate the existing rule, and future modifications that should be considered. Based on an evaluation of recent information, NMFS estimated economic impacts to be considerably less than was originally thought.

Timetable:

Action | Date | FR Cite
NPRM | 06/06/13 | 78 FR 34024
Final Action | 11/00/13

Regulatory Flexibility Analysis Required: Yes.

Agency Contact: Donna Wieting, Fishery Biologist, Office of Protected Resources, Department of Commerce, National Oceanic and Atmospheric Administration, National Marine Fisheries Service, 1315 East-West Highway, Silver Spring, MD 20910,Phone: 301 713-2322.

RIN: 0648-BB20

235. Endangered and Threatened Species: Designation of Critical Habitat for Threatened Lower Columbia River Coho Salmon and Puget Sound Steelhead

Legal Authority: 16 U.S.C. 1531-1544

Abstract: This action will designate critical habitat for lower Columbia River coho salmon and Puget Sound steelhead, currently listed as threatened species under the Endangered Species Act. The specific areas proposed for designation in for lower Columbia River coho include approximately 2,288 mi (3,681 km) of freshwater and estuarine habitat in Oregon and Washington. The specific areas proposed for designation for Puget Sound steelhead include approximately 1,880 mi (3,026 km) of freshwater and estuarine habitat in Puget Sound, Washington.

Timetable:

Action | Date | FR Cite
NPRM | 01/14/13 | 78 FR 2725
Final Action | 01/00/14

Regulatory Flexibility Analysis Required: Yes.

Agency Contact: Donna Wieting, Fishery Biologist, Office of Protected Resources, Department of Commerce, National Oceanic and Atmospheric Administration, National Marine Fisheries Service, 1315 East-West Highway, Silver Spring, MD 20910,Phone: 301 713-2322.

RIN: 0648-BB30

236. Designation of Critical Habitat for the Distinct Population Segments of Yelloweye Rockfish, Canary Rockfish, and Bocaccio

Legal Authority: 16 U.S.C. 1531 et seq.

Abstract: This action proposes to designate critical habitat under the Endangered Species Act for three Distinct Population Segments of rockfish in the Puget Sound/Georgia Basin: (1) the threatened Distinct Population Segments of yelloweye rockfish; (2) the threatened Distinct Population Segments of canary rockfish; and (3) the endangered Distinct Population Segments of bocaccio. The proposed specific areas for canary rockfish and bocaccio comprise approximately 505 hectares (1,249 acres) of marine habitat in Puget Sound. The proposed areas for yelloweye rockfish comprise approximately of 245 hectares (606 acres) of marine habitat in Puget Sound.

Timetable:

Action | Date | FR Cite
NPRM | 08/06/13 | 78 FR 47635
Final Action | 08/00/14

Regulatory Flexibility Analysis Required: Yes.

Agency Contact: Donna Wieting, Fishery Biologist, Office of Protected Resources, Department of Commerce, National Oceanic and Atmospheric Administration, National Marine Fisheries Service, 1315 East-West Highway, Silver Spring, MD 20910,Phone: 301 713-2322.

RIN: 0648-BC76

237. Amending the Atlantic Large Whale Take Reduction Plan

Legal Authority: 16 U.S.C. 1361 et seq.

Abstract: NMFS is proposes to amend the Atlantic Large Whale Take Reduction Plan. These changes are designed to address ongoing right, humpback, and fin whale entanglements resulting in serious injury or mortality. In 2009, the Atlantic Large Whale Take Reduction Team (Team) agreed on a schedule to develop conservation measures for reducing the risk of serious injury and mortality of large whales that become entangled in vertical lines. In an August 2012 American Lobster Biological Opinion, NMFS committed to publishing a proposed rule to address vertical line entanglements in 2013 and to publish a final rule by April 2014. Unlike the broad-scale management approach taken to address entanglement risks associated with groundlines (rope between trap/pots), the approach for the vertical line rulemaking will focus on reducing the risk of vertical line entanglements in finer-scale high impact areas. Using fishing gear characterization data and whale sightings per unit effort data, NMFS developed a model to determine the co-occurrence of fishing gear density and whale density to serve as a guide in the identification of these high risk areas. Potential measures include: expanding the gear marking scheme to require larger and more frequent marks along the buoy line; increasing the number of traps per trawl based on area fished and miles fished from shore in the northeast; establishing several closures in the northeast for trap/pot fisheries; modifying weak link and breaking strength requirements of buoy lines; and requiring the use of one buoy line with one trap in the southeast.

Timetable:

Action | Date | FR Cite
NPRM | 07/16/13 | 78 FR 42653
Notice | 07/24/13 | 78 FR 44536
Final Action | 06/00/14

Regulatory Flexibility Analysis Required: Yes.

Agency Contact: Donna Wieting, Fishery Biologist, Office of Protected Resources, Department of Commerce, National Oceanic and Atmospheric Administration, National Marine Fisheries Service, 1315 East-West Highway, Silver Spring, MD 20910,Phone: 301 713-2322.

RIN: 0648-BC90

238. • Designation of Critical Habitat for the Northwest Atlantic Ocean Loggerhead Sea Turtle DPS and the Determination Regarding Critical Habitat for the North Pacific Ocean Loggerhead DPS

Legal Authority: 16 U.S.C. 1531 et seq.

Abstract: This action would designate critical habitat for the Loggerhead sea turtle pursuant to the Endangered Species Act of 1973, as amended. The loggerhead sea turtle was originally listed worldwide as a threatened species on July 28, 1978. No critical habitat was designated for the loggerhead at that time. On September 22, 2011, NMFS and the U.S. Fish and Wildlife Service jointly published a final rule revising the loggerheads listing from a single worldwide threatened species to nine Distinct Population Segments. The two Distinct Population Segments occurring in U.S. jurisdiction are the Northwest Atlantic Ocean Distinct Population Segment (range defined as north of the equator, south of 60 N. lat., and west of 40 W. long.) and the North Pacific Ocean Distinct Population Segments (range defined as north of the equator and south of 60 N. lat.). For the 2011 final listing rule, NMFS and the U.S. Fish and Wildlife Service found designation of critical habitat to be not determinable. This action will satisfy the provisions under the Endangered Species Act requiring critical habitat to be designated for these Distinct Population Segments.

Timetable:

Action | Date | FR Cite
NPRM | 07/18/13 | 78 FR 43006
Proposed Rule Correction | 08/01/13 | 78 FR 46563
Notice | 08/21/13 | 78 FR 51705
Final Action | 07/00/14

Regulatory Flexibility Analysis Required: Yes.

Agency Contact: Donna Wieting, Fishery Biologist, Office of Protected Resources, Department of Commerce, National Oceanic and Atmospheric Administration, National Marine Fisheries Service, 1315 East-West Highway, Silver Spring, MD 20910,Phone: 301 713-2322.

RIN: 0648-BD27

DEPARTMENT OF COMMERCE (DOC)

National Oceanic and Atmospheric Administration (NOAA)

Long-Term Actions

National Marine Fisheries Service

239. Magnuson-Stevens Fishery Conservation and Management Reauthorization Act (MSRA) Environmental Review Procedure

Legal Authority: 16 U.S.C. 1801 et seq.

Abstract: This rule revises and updates the NMFS procedures for complying with NEPA in the context of fishery management actions developed pursuant to MSRA.

Timetable:

Action | Date | FR Cite
NPRM | 05/14/08 | 73 FR 27998
NPRM Comment Period End | 06/13/08
Next Action Undetermined

Regulatory Flexibility Analysis Required: Yes.

Agency Contact: Steve Leathery,Phone: 301 713-2239,Email: steve.leathery@noaa.gov.

RIN: 0648-AV53

240. Amendment 6 to the Monkfish Fishery Management Plan

Legal Authority: 16 U.S.C. 1801 et seq.

Abstract: The purpose of Amendment 6 to the Monkfish FMP is to consider developing a catch share management program for this fishery. This would very likely also involve the development of a referendum for such a program, as required under the Magnuson-Stevens Fishery Conservation and Management Act.

Timetable:

Action | Date | FR Cite
Notice of Intent to Prepare an EIS | 11/30/10 | 75 FR 74005
NPRM | 01/00/15

Regulatory Flexibility Analysis Required: Yes.

Agency Contact: John K. Bullard,Phone: 978 281-9287,Email: john.bullard@noaa.gov.

RIN: 0648-BA50

241. Amendment 22 to the Fishery Management Plan for the Snapper Grouper Fishery of the South Atlantic Region

Legal Authority: 16 U.S.C. 1801 et seq.

Abstract: The red snapper stock in the South Atlantic was assessed through the Southeast, Data, Assessment, and Review process in 2008 and 2010. The assessments indicate that the stock is experiencing overfishing and is overfished. As a result of the 2008 assessment, fishing for red snapper has been prohibited in Federal waters off the south Atlantic States since January 4, 2010. In Amendment 22, the National Marine Fisheries Service and the South Atlantic Fishery Management Council are considering alternatives to change the current harvest restrictions on red snapper as the stock increases in biomass. Examples of measures under consideration include the implementation of red snapper trip limits, bag limits, a catch share program, tag program, temporal and spatial closures including those to protect spawning stocks, and gear prohibitions.

Timetable:

Action | Date | FR Cite
Notice of Intent | 01/03/11 | 76 FR 101
Notice of Intent Comment Period End | 02/14/11
NPRM | 11/00/14

Regulatory Flexibility Analysis Required: Yes.

Agency Contact: Roy E. Crabtree,Phone: 727 824-5305,Fax: 727 824-5308,Email: roy.crabtree@noaa.gov.

RIN: 0648-BA53

242. • Comprehensive Fishery Management Plan for Puerto Rico

Legal Authority: 16 U.S.C. 1801 et seq.

Abstract: This comprehensive Puerto Rico Fishery Management Plan will incorporate, and modify as needed, Federal fisheries management measures presently included in each of the existing species-based U.S. Caribbean Fishery Management Plans (Spiny Lobster, Reef Fish, Coral, and Queen Conch Fishery Management Plans) as those measures pertain to Puerto Rico exclusive economic zone waters. The goal of this action is to create a Fishery Management Plan tailored to the specific fishery management needs of Puerto Rico. If approved, this new Puerto Rico Fishery Management Plan, in conjunction with similar comprehensive Fishery Management Plans being developed for each of St. Croix and St. Thomas/St. John, will replace the Spiny Lobster, Reef Fish, Coral and Queen Conch Fishery Management Plans presently governing the commercial and recreational harvest in U.S. Caribbean exclusive economic zone waters.

Timetable:

Action | Date | FR Cite
NPRM | 11/00/14

Regulatory Flexibility Analysis Required: Yes.

Agency Contact: Roy E. Crabtree, Southeast Regional Administrator, Department of Commerce, National Oceanic and Atmospheric Administration, 263 13th Avenue South, St. Petersburg, FL 33701,Phone: 727 824-5305,Fax: 727 824-5308,Email: roy.crabtree@noaa.gov.

RIN: 0648-BD32

243. • Comprehensive Fishery Management Plan for St. Croix

Legal Authority: 16 U.S.C. 1801 et seq.

Abstract: This comprehensive St. Croix Fishery Management Plan will incorporate, and modify as needed, Federal fisheries management measures presently included in each of the existing species-based U.S. Caribbean Fishery Management Plans (Spiny Lobster, Reef Fish, Coral, and Queen Conch Fishery Management Plans) as those measures pertain to St. Croix exclusive economic zone waters. The goal of this action is to create a Fishery Management Plan tailored to the specific fishery management needs of St. Croix. If approved, this new St. Croix Fishery Management Plan, in conjunction with similar comprehensive Fishery Management Plans being developed for each of Puerto Rico and St. Thomas/St. John, will replace the Spiny Lobster, Reef Fish, Coral and Queen Conch Fishery Management Plans presently governing the commercial and recreational harvest in U.S. Caribbean exclusive economic zone waters.

Timetable:

Action | Date | FR Cite
NPRM | 11/00/14 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD33

244. • Comprehensive Fishery Management Plan for St. Thomas/St. John

Legal Authority: 16 U.S.C. 1801 et seq.

Abstract: This comprehensive St. Thomas/St. John Fishery Management Plan will incorporate, and modify as needed, Federal fisheries management measures presently included in each of the existing species-based U.S. Caribbean Fishery Management Plans (Spiny Lobster, Reef Fish, Coral, and Queen Conch Fishery Management Plans) as those measures pertain to St. Thomas/St. John exclusive economic zone waters. The goal of this action is to create a Fishery Management Plan tailored to the specific fishery management needs of St. Thomas/St. John. If approved, this new St. Thomas/St. John Fishery Management Plan, in conjunction with similar comprehensive Fishery Management Plans being developed for each of St. Croix and Puerto Rico, will replace the Spiny Lobster, Reef Fish, Coral and Queen Conch Fishery Management Plans presently governing the commercial and recreational harvest in U.S. Caribbean exclusive economic zone waters.

Timetable:

Action | Date | FR Cite
NPRM | 11/00/14 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD34

245. Marine Mammal Protection Act Permit Regulation Revisions

Legal Authority: 16 U.S.C. 1374

Abstract: This action would consider revisions to the implementing regulations governing the issuance of permits for activities under Section 104 of the Marine Mammal Protection Act. The intent of this action would be to streamline and update (using plain language) the general permitting information and the specific requirements for the four categories of permits: scientific research (including the General Authorization); enhancement; educational and commercial photography; and public display. The revisions would also simplify procedures for collection, possession, and transfer of marine mammals parts collected before the effective date of the Marine Mammal Protection Act, and also clarify reporting requirements for public display facilities holding marine mammals.

Timetable:

Action | Date | FR Cite
ANPRM | 09/13/07 | 72 FR 52339
ANPRM Comment Period Extended | 10/15/07 | 72 FR 58279
ANPRM Comment Period End | 11/13/07 | 72 FR 52339
ANPRM Comment Period End | 12/13/07 | 72 FR 58279
NPRM | 12/00/14 |

Regulatory Flexibility Analysis Required: Yes.

Agency Contact: Donna Wieting, Phone: 301 713-2322.

RIN: 0648-AV82

DEPARTMENT OF COMMERCE (DOC)

National Oceanic and Atmospheric Administration (NOAA)

Completed Actions

246. Amendent 18B to the Snapper Grouper Fishery Management Plan of the South Atlantic Region

Legal Authority: 16 U.S.C. 1801 et seq.

Abstract: The South Atlantic Council intends to limit participation in the golden tilefish component of the snapper-grouper fishery. This amendment proposes to establish a longline endorsement program for golden tilefish, establish golden tilefish allocations for the hook and line and longline sectors, and modify golden tilefish trip limits.

Timetable:

Action | Date | FR Cite
Notice | 10/26/12 | 77 FR 65356
NPRM | 12/19/12 | 77 FR 75093
Final Action | 04/23/13 | 78 FR 23858

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB58

247. Pacific Coast Groundfish Trawl Rationalization Program Reconsideration of Allocation of Whiting (RAW 2)

Legal Authority: 16 U.S.C. 1801 et seq.

Abstract: On February 21, 2012, Judge Henderson issued the remedy order in Pacific Dawn, LLC v. Bryson, No. C10-4829 TEH (N.D. Cal.). The Order remands the regulations addressing the initial allocation of whiting for the shorebased individual fishing quota (IFQ) fishery and the at-sea mothership fishery of the Pacific Coast Groundfish Trawl Rationalization Program (program) for further consideration consistent with the courts December 22, 2011 summary judgment ruling, the Magnuson-Stevens Fishery Conservation and Management Act (MSA), and all other governing law. Further, the Order requires that the National Marine Fisheries Service (NMFS) implement revised regulations before the 2013 Pacific whiting fishing season begins on April 1, 2013. This action implements revised regulations, as appropriate, including a reallocation of whiting and potentially some related species. This action may include a Paperwork Reduction Act package to clear application forms, and any other necessary documentation.

Timetable:

Action | Date | FR Cite
ANPRM | 04/04/12 | 77 FR 20337
Proposed Rule | 01/02/13 | 78 FR 72
Final Action | 03/28/13 | 78 FR 18879

Regulatory Flexibility Analysis Required: Yes.

Agency Contact: Barry Thom, Deputy Regional Administrator, Northwest Region, NMFS, Department of Commerce, National Oceanic and Atmospheric Administration, Building 1, 7600 Sand Point Way NE., Seattle, WA 48115-0070, Phone: 206 526-6150, Fax: 206 526-6426, Email: barry.thom@noaa.gov.

RIN: 0648-BC01

248. Amendment 4 to the Fishery Management Plan for the Reef Fish Fishery of Puerto Rico and the U.S. Virgin Islands: Parrotfish Size Limits

Legal Authority: 16 U.S.C. 1801 et seq.

Abstract: This amendment implemented size limits for parrotfish harvest in the U.S. Caribbean exclusive economic zone. Size limits are intended to allow juvenile parrotfish to mature into reproductively active females, and to have a chance to spawn prior to harvest. Reproductively active females are a necessary component of a healthy, sustainable population.

Timetable:

Action | Date | FR Cite
NPRM | 03/11/13 | 78 FR 15338
Final Action | 07/30/13 | 78 FR 45894

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC20

249. Amendment 42 to the Fishery Management Plan for Bering Sea/Aleutian Islands King and Tanner Crabs

Legal Authority: 16 U.S.C. 1801 et seq.

Abstract: NMFS implemented regulations for Amendment 42 to the Fishery Management Plan for Bering Sea/Aleutian Islands King and Tanner Crabs (FMP). Amendment 42 revised the annual economic data reports currently required from catcher vessels, catcher/processors, shoreside processors, and stationary floating crab processors participating in the Bering Sea and Aleutian Islands Crab Rationalization Program. The economic data reports include cost, revenue, ownership, and employment data in order to study the economic impacts of the Crab Rationalization Program on harvesters, processors, and affected communities. Amendment 42 eliminated redundant reporting requirements, standardized reporting across respondents, and reduced costs associated with the data collection.

Timetable:

Action | Date | FR Cite
Notice | 03/12/13 | 78 FR 15677
NPRM | 03/21/13 | 78 FR 17341
Final Action | 06/17/13 | 78 FR 36122

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov

RIN: 0648-BC25

250. Framework Adjustment 48 to the Northeast Multispecies Fishery Management Plan

Legal Authority: 16 U.S.C. 1801 et seq.

Abstract: The action implemented Framework Adjustment 48 to the Northeast Multispecies Fishery Management Plan. Framework 48 set specifications for groundfish stocks for fishing years 2013 through 2015. This action also adopted the total allowable catches for the U.S./Canada Management Area consistent with the U.S./Canada Resource Understanding. The Georges Bank yellowtail flounder quota was substantially reduced through this action, potentially limiting fishing for more valuable species and resulting in economic losses for the groundfish and scallop industries. Quotas for Gulf of Maine and Georges Bank cod were also substantially reduced. This action also included measures to allow fishing in areas that have been previously closed. This action was necessary to end overfishing and continue rebuilding of certain groundfish stocks and improve the profitability of the groundfish fishery.

Timetable:

Action | Date | FR Cite
Notice of Intent | 06/21/12 | 77 FR 37387
NPRM | 03/25/13 | 78 FR 18187
Interim Final Rule | 05/03/13 | 78 FR 26117
Correcting Amendment | 06/10/13 | 78 FR 34587
Final Rule | 08/29/13 | 78 FR 53363

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC27

251. Magnuson-Stevens Act Provisions; Fisheries off West Coast States: Pacific Coast Groundfish Fishery; Specifications and Management Measures and FMP Amendment 21-1

Legal Authority: 16 U.S.C. 1801 et seq.

Abstract: Every other year, the Pacific Fishery Management Council (Council) makes recommendations to set biennial allowable harvest levels for Pacific Coast groundfish, and recommends management measures for commercial and recreational fisheries that are designed to achieve those harvest levels.

Timetable:

Action | Date | FR Cite
NPRM | 11/14/12 | 77 FR 67974
Final Rule | 01/03/13 | 78 FR 579

Regulatory Flexibility Analysis Required: Yes.

Agency Contact: Barry Thom, Deputy Regional Administrator, Northwest Region, NMFS, Department of Commerce, National Oceanic and Atmospheric Administration, Building 1, 7600 Sand Point Way NE., Seattle, WA 48115-0070, Phone: 206 526-6150, Fax: 206 526-6426, Email: barry.thom@noaa.gov.

RIN: 0648-BC35

252. Management Measures for Pacific Bluefin Tuna in the Eastern Pacific Ocean

Legal Authority: 16 U.S.C. 951-961 et seq.

Abstract: This rule restricts U.S. commercial fishing in the eastern Pacific Ocean for 2012 and 2013 by preventing further commercial retention of bluefin tuna after (1) the commercial catch of bluefin tuna by the international fleet reaches 10,000 metric tons; (2) the commercial catch of bluefin tuna by the international fleet reaches 5,600 metric tons during the year 2012. Notwithstanding these restrictions, the United States commercial fishery may catch up to 500 metric tons of pacific bluefin tuna in 2012 and 2013. This regulation was issued under the authority of the Tuna Conventions Act, as amended to implement recommendations of the Inter-American Tropical Tuna Commission (IATTC). At the annual IATTC meeting in June 2012, the IATTC adopted Resolution C-12-09, Conservation and Management Measure for Bluefin Tuna in the Eastern Pacific Ocean. This rulemaking ensures that the United States is satisfying its obligations as a party to the IATTC Convention. It is not anticipated that as a result of implementing Resolution C-12-09 that there would be any economic effect, or very limited economic effect. No commercial vessels specialize in harvesting Pacific Bluefin. Pacific Bluefin is caught commercially by small coastal purse seine vessels operating in the Southern California Bight with limited additional landings by the drift gillnet fleet that targets swordfish. The Pacific bluefin commercial catch limitations are not expected to result in a closure of the United States fishery because catches from recent years have not reached the 500 metric ton limit. The last time the United States exceeded 500 metric tons was in 1998.

Timetable:

Action | Date | FR Cite
NPRM | 12/12/12 | 77 FR 73969
Final Action | 06/04/13 | 78 FR 33240

Regulatory Flexibility Analysis Required: Yes.

Agency Contact: Mark Helvey, Assistant Regional Administrator for Sustainable Fisheries, Department of Commerce, National Oceanic and Atmospheric Administration, 501 West Ocean Boulevard, Long Beach, CA 90802,Phone: 562 980-4040,Fax: 562 980-4047,Email: mark.helvey@noaa.gov.

RIN: 0648-BC44

253. Regulatory Amendment To Implement an Exempted Fishery for the Spiny Dogfish Fishery Off Cape Cod, MA

Legal Authority: 16 U.S.C. 1801 et seq.

Abstract: This action established an exempted fishery because it has been determined that the directed fishery for spiny dogfish does not catch more than a small amount of groundfish. Implementing this action allows vessels to target spiny dogfish without having to use their declared days-at-sea or sector groundfish trips affected. This action exempts the groundfish sectors from having a groundfish discard rate applied to these trips, which means the sectors would not use their groundfish allocations as fast. Specifically, this rule created an exempted fishery for vessels using gillnet and longline gear from June through December and handline gear from June through August in an area off Cape Cod, MA where less than five percent of their catch is groundfish.

Timetable:

Action | Date | FR Cite
NPRM | 10/19/12 | 77 FR 64305
Interim Final Rule | 05/07/13 | 78 FR 26518

Regulatory Flexibility Analysis Required: Yes.

Agency Contact: John K. Bullard, Northeast Regional Administrator, Department of Commerce, National Oceanic and Atmospheric Administration, 55 Great Republic Drive, Gloucester, MA 01930,Phone: 978 281-9287,Email: john.bullard@noaa.gov.

RIN: 0648-BC50

254. Pacific Halibut Fisheries; Catch Sharing Plan for Washington, Oregon, and California

Legal Authority: 16 U.S.C. 773 et seq.

Abstract: Each year, the Pacific Fishery Management Council (Council) reviews and receives public comment on its Pacific Halibut Catch Sharing Plan (Plan) to determine whether revisions are needed to achieve management objectives for any of the West Coast halibut fisheries. As recommended by the Council, for 2013 and beyond, this action implements minor changes to the portion of the Plan covering the sport fisheries and the salmon troll commercial fishery that incidentally catches halibut. For the Columbia River subarea sport fishery the changes increase the early season percentage, decrease the late season percentage, and decrease the days of the week. This change was recommended to more fully attain this subarea's quota. This action eliminates the summer all depth season and transferring the summer quota to the spring and nearshore fisheries, for the Oregon Central coast subarea, which may be triggered by a U.S. West Coast TAC of 700,000 lbs. Additionally in this area for the nearshore fishery, there will be a reduction to the number of open days from seven to three. Finally, the start date for halibut retention in the salmon troll fishery will be changed from May 1 to April 1 each year.

Timetable:

Action | Date | FR Cite
NPRM | 02/11/13 | 78 FR 9660
Final Rule | 03/15/13 | 78 FR 16423
Correcting Amendment | 05/08/13 | 78 FR 26708

Regulatory Flexibility Analysis Required: Yes.

Agency Contact: Barry Thom, Deputy Regional Administrator, Northwest Region, NMFS, Department of Commerce, National Oceanic and Atmospheric Administration, Building 1, 7600 Sand Point Way NE., Seattle, WA 48115-0070,Phone: 206 526-6150,Fax: 206 526-6426,Email: barry.thom@noaa.gov.

RIN: 0648-BC75

255. 2013-2015 Spiny Dogfish Fishery Specifications

Legal Authority: 16 U.S.C. 1801 et seq.

Abstract: This action implements the specifications for the spiny dogfish fishery for fishing years 2013-2015. Each year would include annual catch limits and commercial fishery quotas that represent increases from fishing year 2012 levels. The action also increases the spiny dogfish possession limit from 3,000 to 4,000 pounds per trip. The New England and Mid-Atlantic Fishery Management Councils jointly recommended the Annual catch limits and commercial quotas for FYs 2013-2015.2013: ACL = 54.295 million lb; commercial quota = 40.842 million lb (+14 percent from 2012)2014: ACL = 55.277 million lb; commercial quota = 41.784 million lb (+17 percent from 2012)2015: ACL = 55.063 million lb; commercial quota = 41.578 million lb (+16 percent from 2012).

Timetable:

Action | Date | FR Cite
NPRM | 03/12/13 | 78 FR 15674
Final Action | 05/03/13 | 78 FR 25862

Regulatory Flexibility Analysis Required: Yes.

Agency Contact: John K. Bullard, Northeast Regional Administrator, Department of Commerce, National Oceanic and Atmospheric Administration, 55 Great Republic Drive, Gloucester, MA 01930,Phone: 978 281-9287,Email: john.bullard@noaa.gov.

RIN: 0648-BC85

256. International Fisheries; Western and Central Pacific Fisheries for Highly Migratory Species; Fishing Restrictions in Purse Seine Fisheries for 2013 and 2014

Legal Authority: 16 U.S.C. 6901 et seq.

Abstract: This rule establishes requirements for U.S. purse seine vessels pursuant to a decision made by the Western and Central Pacific Fisheries Commission, which is intended to reduce or otherwise control the fishing mortality rates on three stocks of tuna (Bigeye, Yellowfin, and Skipjack Tuna). Member States of the Commission, including the United States, are obligated to establish specific requirements in their fisheries for highly migratory fish stocks in the western and central Pacific Ocean. Pursuant to the Western and Central Pacific Fisheries Convention Implementation Act, 16 U.S.C. 6901, et seq., the Secretary of Commerce is authorized to implement regulations to carry out the obligations of the United States under the Western and Central Pacific Fisheries Convention (Convention), including the implementation of Commission decisions such as CMM 2012-01. This rule implements the requirements for U.S. purse seine vessels. The rule includes limits for calendar years 2013 and 2014 on U.S. purse seine fishing effort on the high seas and in the U.S. exclusive economic zone in the Convention Area. It sets controls on the use of fish aggregating devices by U.S. purse seine vessels during 2013 and 2014, including periods during which purse seine fishing may not be done on schools aggregated in association with fish aggregating devices. Finally, this action implements a requirement, if necessary, for U.S. purse seine vessels to carry observers on all fishing trips in the Convention Area.

Timetable:

Action | Date | FR Cite
NPRM | 03/07/13 | 78 FR 14755
Correction | 03/25/13 | 78 FR 17919
Final Action | 05/23/13 | 78 FR 30773

Regulatory Flexibility Analysis Required: Yes.

Agency Contact: Michael Tosatto, Regional Administrator for the Pacific Islands Region, Department of Commerce, National Oceanic and Atmospheric Administration, 1601 Kapiolani Boulevard, Suite 1110, Honolulu, HI 96814,Phone: 808 944-2281.

RIN: 0648-BC87

257. Pacific Coast Whiting Fishery Allocations for 2013

Legal Authority: 16 U.S.C. 1801 et seq.; 16 U.S.C. 773 et seq.

Abstract: This rule is a routine action which is issued consistent with a regulatory framework that was established in 1996 to implement the Washington coastal treaty Indian tribes rights to harvest Pacific Coast groundfish. The proposed rule established a formula for determining the Pacific whiting tribal allocation for 2013. The final rule for Pacific whiting in 2013 included the tribal allocation as well as final allocations to the non-tribal sector.

Timetable:

Action | Date | FR Cite
NPRM | 03/05/13 | 78 FR 14259
Final Action | 05/07/13 | 78 FR 26526

Regulatory Flexibility Analysis Required: Yes.

Agency Contact: Barry Thom, Deputy Regional Administrator, Northwest Region, NMFS, Department of Commerce, National Oceanic and Atmospheric Administration, Building 1, 7600 Sand Point Way NE., Seattle, WA 48115-0070,Phone: 206 526-6150,Fax: 206 526-6426,Email: barry.thom@noaa.gov.

RIN: 0648-BC93

258. Emergency Rule To Establish Recreational Closure Authority Specific to Federal Waters Off Individual States for the Red Snapper Component of the Reef Fish Fishery

Legal Authority: 16 U.S.C. 1801 et seq.

Abstract: Prior to the June 1 opening each year, NMFS determines the recreational red snapper fishing season length based on landings projections, which evaluate catch rates and the average weight of red snapper landed in previous years. Those projections also account for any excess fish that will be harvested in waters of States that adopt inconsistent regulations. This means that the recreational season in the entire Gulf of Mexico EEZ has been shortened to account for harvest occurring in State waters when Federal waters are closed. To reduce the impact of inconsistent State regulations on all Gulf Coast states and provide for a more equitable allocation of red snapper harvest, the Council requested that NMFS implement an emergency rule that provides the authority to shorten the federal season only off those States that adopt inconsistent regulations. The Federal seasons off those States would be shortened by the amount needed to correct for the additional harvest that would occur as a result of their regulations.

Timetable:

Action | Date | FR Cite
Final Rule | 03/25/13 | 78 FR 17882

Regulatory Flexibility Analysis Required: Yes.

Agency Contact: Roy E. Crabtree, Southeast Regional Administrator, Department of Commerce, National Oceanic and Atmospheric Administration, 263 13th Avenue South, St. Petersburg, FL 33701,Phone: 727 824-5305,Fax: 727 824-5308,Email: roy.crabtree@noaa.gov.

RIN: 0648-BD00

259. Regulatory Amendment 18 to the Fishery Management Plan for the Snapper Grouper Fishery of the South Atlantic Region

Legal Authority: 16 U.S.C. 1801 et seq.

Abstract: Stock assessment updates for vermilion snapper and red porgy were completed in 2012, and suggest the annual catch limit (ACL) for both species could be modified based upon advice from the South Atlantic Fishery Management Council's (South Atlantic Council) Scientific and Statistical Committee. The stock assessment updates indicate vermilion snapper is no longer undergoing overfishing and is not overfished, and red porgy is not undergoing overfishing but is still overfished. Based on the outcome of the stock assessment updates the Council recommended modifying the commercial and recreational ACLs for red porgy and vermilion snapper.

Timetable:

Action | Date | FR Cite
NPRM | 05/08/13 | 78 FR 26740
Final Action | 08/06/13 | 78 FR 47574

Regulatory Flexibility Analysis Required: Yes.

Agency Contact: Roy E. Crabtree, Southeast Regional Administrator, Department of Commerce, National Oceanic and Atmospheric Administration, 263 13th Avenue South, St. Petersburg, FL 33701,Phone: 727 824-5305,Fax: 727 824-5308,Email: roy.crabtree@noaa.gov.

RIN: 0648-BD04

260. 2013 Summer Flounder, Scup, and Black Sea Bass Recreational Harvest Measures and Increase to the 2013 and 2014 Black Sea Bass Specifications

Legal Authority: 16 U.S.C. 1801 et seq.

Abstract: This rulemaking implements management measures to achieve recreational harvest limits for the 2013 summer flounder, scup, and black sea bass recreational fisheries. Recreational management measures include recreational possession limits, minimum fish sizes. The Mid-Atlantic Fishery Management Council's recommended recreational management measures intend to achieve the recreational harvest limits which were established consistent with the Scientific and Statistical Committee's recommendations. This rulemaking also increases the catch limits for the 2013 and 2014 black sea bass fishery, consistent with a revised recommendation from the Scientific and Statistical Committee.

Timetable:

Action | Date | FR Cite
NPRM | 04/29/13 | 78 FR 25052
Final Action | 06/21/13 | 78 FR 37475

Regulatory Flexibility Analysis Required: Yes.

Agency Contact: John K. Bullard, Northeast Regional Administrator, Department of Commerce, National Oceanic and Atmospheric Administration, 55 Great Republic Drive, Gloucester, MA 01930,Phone: 978 281-9287,Email: john.bullard@noaa.gov.

RIN: 0648-BD13

261. Framework Adjustment 24 to the Atlantic Sea Scallop FMP and Framework Adjustment 49 to the Northeast Multispecies Fishery Management Plan

Legal Authority: 16 U.S.C. 1801 et seq.

Abstract: Framework 24 to the Atlantic Sea Scallop FMP set management measures for the scallop fishery for the 2013 fishing year, including the annual catch limits for the limited access and limited access general category fleets, as well as days-at-sea allocations and sea scallop access area trip allocations. In addition, it adjusts the Georges Bank scallop access area closure schedule, refines the management of yellowtail flounder accountability measures in the scallop fishery, makes adjustments to the industry-funded observer program, and provides more flexibility in the management of the individual fishing quota program. Because Framework 24 includes an alternative to modify the Georges Bank scallop access area seasonal restrictions, this action is also a joint framework with the Northeast Multispecies Fishery Management Plan (Framework 49).

Timetable:

Action | Date | FR Cite
NPRM | 03/15/13 | 78 FR 16573
Final Rule | 05/09/13 | 78 FR 27088
Correction | 07/18/13 | 78 FR 42890

Regulatory Flexibility Analysis Required: Yes.

Agency Contact: John K. Bullard, Northeast Regional Administrator, Department of Commerce, National Oceanic and Atmospheric Administration, 55 Great Republic Drive, Gloucester, MA 01930;Phone: 978 281-9287,Email: john.bullard@noaa.gov.

RIN: 0648-BC81

[FR Doc. 2013-29629 Filed 1-6-14; 8:45 am]

BILLING CODE 3510-12-P